DEPARTMENT OF HOUSING AND URBAN DEVELOPMENT

[Docket No. FR-4854-N-01]

Notice of Regulatory Waiver Requests Granted for the First Quarter of Calendar Year 2003

AGENCY: Office of the Secretary, HUD.

ACTION: Public notice of the granting of regulatory waivers from January 1, 2003, through March 31, 2003.

SUMMARY: Section 106 of the Department of Housing and Urban Development Reform Act of 1989 (the HUD Reform Act) requires HUD to publish quarterly Federal Register notices of all regulatory waivers that HUD has approved. Each notice must cover the quarterly period since the previous Federal Register notice. The purpose of this notice is to comply with the requirements of section 106 of the HUD Reform Act. This notice contains a list of regulatory waivers granted by HUD during the quarter beginning on January 1, 2003, and ending on March 31, 2003.

FOR FURTHER INFORMATION CONTACT: For general information about this notice, contact Aaron Santa Anna, Assistant General Counsel for Regulations, Room 10276, Department of Housing and Urban Development, 451 Seventh Street, SW., Washington, DC 20410-0500; telephone (202) 708-3055 (this is not a toll-free number). Hearing-or speech-impaired persons may access this number through TTY by calling the toll-free Federal Information Relay Service at 1-800-877-8339.

For information concerning a particular waiver action for which public notice is provided in this document, contact the person whose name and address follow the description of the waiver granted in the accompanying list of waiver-grant actions.

SUPPLEMENTARY INFORMATION: Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request; and

e. State how additional information about a particular waiver-grant action may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers HUD's waiver-grant activity from January 1, 2003, through March 31, 2003. For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement that appears in title 24 of the Code of Federal Regulations and that is being waived as part of the waiver-grant action. For example, a waiver of both § 58.73 and § 58.74 would appear sequentially in the listing under § 58.73.

Waiver-grant actions involving the same initial regulatory citation are in time sequence beginning with the earliest-dated waiver-grant action.

Should HUD receive additional reports of waiver actions taken during the period covered by this report before the next report is published, the next updated report will include these earlier actions, as well as those that occurred during April 1, 2003, through June 30, 2003.

Accordingly, information about approved waiver requests pertaining to HUD regulations is provided in the Appendix that follows this notice.

Dated: September 10, 2003.
Alphonso Jackson,
Deputy Secretary.

Listing of Waivers of Regulatory Requirements Granted by Offices of the Department of Housing and Urban Development January 1, 2003, Through March 31, 2003

Note to Reader: More information about the granting of these waivers, including a copy of the waiver request and approval, may be obtained by contacting the person whose name is listed as the contact person directly after each set of waivers granted.

The regulatory waivers granted appear in the following order:

I. Regulatory waivers granted by the Office of Community Planning and Development.

II. Regulatory waivers granted by the Office of Housing.

III. Regulatory waivers granted by the Office of Public and Indian Housing.

IV. Regulatory waivers granted by the Office of Policy Development and Research.

I. Regulatory Waivers Granted by the Office of Community Planning and Development

For further information about the following waiver actions, please see the name of the contact person who immediately follows the description of the waiver granted.

• Regulations: 24 CFR 91.520(a).

Project/Activity: Dane County, Wisconsin, requested a waiver of the requirement that each grantee must submit a performance report to HUD within 90 days after the close of the grantee's program year.

Nature of Requirement: Section 91.520(a) requires each grantee to submit a performance report to HUD within 90 days after the close of the grantee's program year.

Granted By: Roy A. Bernardi, Assistant Secretary for Community Planning and Development.

Date Granted: March 17, 2003.

Reason Waived: It would be a hardship for county staff to complete the Consolidated Annual Performance and Evaluation Report (CAPER) without an additional staff member. The county is now in the process of hiring this person. The county is unable to submit an accurate and complete report on its 2002 program without the additional time. The CAPER provides local residents with information on the county's accomplishments during the year, and the report data goes into a national database used for various reporting purposes, including the annual report to Congress. While HUD is desirous of timely reports, it is also interested in ensuring that the information in CAPERs is complete and accurate. Dane County received an extension to May 31, 2003, to submit its 2002 CAPER to HUD.

Contact: Cornelia Robertson-Terry, Office of Community Planning and Development, Room 7152, Department of Housing and Urban Development, 451 Seventh Street, SW., Washington, DC 20410-7000; telephone: (202) 708-2565.

• Regulations: 24 CFR 92.2.

Project/Activity: The city of Baltimore, Maryland, requested a waiver of the definition of “single room occupancy” (SRO) housing to permit it to provide HOME funds to rehabilitate and expand a transitional housing project.

Nature of Requirement: Section 92.2 states that newly constructed SRO units funded with HOME dollars must contain either food preparation or sanitary facilities, while rehabilitated SRO units require neither food preparation nor sanitary facilities to be located in the unit.

Granted By: Roy A. Bernardi, Assistant Secretary for Community Planning and Development.

Date Granted: January 15, 2003.

Reason Waived: The Department determined that there was good cause to grant the waiver due to the physical limitations associated with the development of the project and the intent of Bright Hope House to provide additional handicapped accessible residential units. The project involves a three-story addition to the building as well as rehabilitation of the 8,200 square foot existing building. This addition will expand the building by 25 percent and create 10 new handicapped-accessible units and a three-story elevator. Sanitation and food preparation will remain communal.

Contact: Cornelia Robertson-Terry, Office of Community Planning and Development, Room 7152, Department of Housing and Urban Development, 451 Seventh Street, SW., Washington, DC 20410-7000; telephone: (202) 708-2565.

• Regulations: 24 CFR 92.101(e).

Project/Activity: Waukesha, Wisconsin County Consortium requested a waiver to extend its program qualifications period from three to five years.

Nature of Requirement: Section 92.101(e) states that a consortium's qualification as a unit of general local government continues for a period of three consecutive years. The rule further states that if a member urban county's three year Community Development Block Grant (CDBG) qualification cycle is not the same as the consortium, the consortium may elect a shorter qualification period than three years to synchronize with the urban county's qualification period.

Granted By: Roy A. Bernardi, Assistant Secretary for Community Planning and Development.

Date Granted: January 17, 2003.

Reason Waived: The Department determined that there was good cause for granting the waiver. The waiver will allow Waukesha County to align its CDBG and HOME programs to better coordinate them.

Contact: Cornelia Robertson-Terry, Office of Community Planning and Development, Room 7152, Department of Housing and Urban Development, 451 Seventh Street, SW., Washington, DC 20410-7000; telephone: (202) 708-2565.

• Regulations: 24 CFR 92.212(b).

Project/Activity: The city of Seattle, Washington, requested a waiver of the restrictions on pre-award costs to permit the city to incur HOME administration and planning costs prior to the submission of the city's Consolidated Plan.

Nature of Requirement: Section 92.212(b) states that the submission and approval of a Consolidated Plan is a requirement for receiving a HOME allocation. Paragraph (b) of that section further states that eligible costs for the planning and administration of the HOME program may be incurred as of the beginning of a participating jurisdiction's program year, or the date the consolidated plan describing the HOME allocation to which the costs will be charged is received by HUD, whichever is later.

Granted By: Roy A. Bernardi, Assistant Secretary for Community Planning and Development.

Date Granted: February 5, 2003.

Reason Waived: The Department determined that there was good cause to grant the waiver. Faced with a $60 million deficit, the new mayoral administration of the city of Seattle conducted an extensive review of the city's budget that resulted in extensive changes to the way in which funds are allocated within city programs and departments. The budget crisis and uncertainty in budget decisions delayed the completion of the city's Consolidated Plan and submission to HUD. The delay in submitting the Consolidated Plan precludes the city's ability to incur HOME administrative and planning costs and threatens to impede the management of ongoing HOME-eligible activities. The city proposed a reasonable timeframe for submitting the Consolidated Plan to HUD. The waiver will permit the city to incur HOME-eligible planning and administrative expenses effective January 1, 2003, provided the city submits its FY 2003 Consolidated Plan by the established February 18, 2003, date.

Contact: Cornelia Robertson-Terry, Office of Community Planning and Development, Room 7152, Department of Housing and Urban Development, 451 Seventh Street, SW., Washington, DC 20410-7000; telephone: (202) 708-2565.

• Regulations: 24 CFR 92.214(a)(7) & 92.502(d).

Project/Activity: The Idaho Housing and Finance Association (IHFA), Caldwell, Idaho, requested a waiver of the restrictions on providing additional HOME assistance to a project more than one year after the completion of that project. This waiver will benefit the Marble Front complex in Caldwell, Idaho.

Nature of Requirement: The regulation states that providing additional HOME assistance to a project during the period of affordability is prohibited, except that additional HOME funds may be committed up to one year after project completion as long as the HOME funds committed to the project do not exceed the maximum per unit subsidy.

Granted By: Roy A. Bernardi, Assistant Secretary for Community Planning and Development.

Date Granted: March 27, 2003.

Reason Waived: The Department determined that there was good cause to grant the waiver. The waiver will allow IHFA to invest additional HOME funds, not to exceed the maximum per unit subsidy, in the Marble Front property. This will bring the property into compliance with HOME property standards and tenant income requirements, and meet the Uniform Federal Accessibility Standards as they apply to Section 504 of the Rehabilitation Act of 1973 (Section 504). The waiver will also ensure the affordability of the project. HUD required IHFA to review and revise its current Section 504 monitoring procedures to ensure that all future projects meet these fair housing and accessibility requirements.

Contact: Cornelia Robertson-Terry, Office of Community Planning and Development, Room 7152, Department of Housing and Urban Development, 451 Seventh Street, SW., Washington, DC 20410-7000; telephone: (202) 708-2565.

• Regulations: 24 CFR 570.208(a)(3).

Project/Activity: The city of Decatur, Illinois, requested a waiver of the regulation which generally requires that all single unit housing structures on property acquired with CDBG funds must be occupied by low- and moderate-income households. The city requested this waiver to allow it to convey property it acquired, in part, with CDBG funds to the Decatur Housing Authority (DHA) to be included as part of the revitalization of the Near North area as a mixed-income community.

Nature of Requirement: Section 570.208 (a)(3) requires that all single unit housing structures on property acquired with CDBG funds must be occupied by low- and moderate-income households.

Granted By: Roy A. Bernardi, Assistant Secretary for Community Planning and Development.

Date Granted: March 27, 2003.

Reason Waived: The methodology used to determine compliance with section 570.208 (a)(3) is not required by statute. Therefore, HUD may consider a waiver to permit the use of another methodology to meet the housing national objective. Based on the information provided, the city has demonstrated good cause for this waiver. Although CDBG funds represent 14 percent of the total cost, the city stated that 35 percent of the single-family units would be for low- and moderate-income households. This will allow the DHA to further the revitalization of the Near North area as a mixed-income community with 35 percent of the single family housing units and at least 51 percent of the rental units be occupied by low- and moderate-income households upon completion of the project. The city must notify HUD if any changes occur in either the financing, number of units in the project, and/or those occupied by low- and moderate-income household, since any changes could nullify this waiver. Finally, the regulation at § 570.208(a)(3) requires that rental housing occupied by low- and moderate-income households must be at affordable rents.

Contact: Cornelia Robertson-Terry, Office of Community Planning and Development, Room 7152, Department of Housing and Urban Development, 451 Seventh Street, SW., Washington, DC 20410-7000; telephone: (202) 708-2565.

• Regulations: 24 CFR 574.330(a).

Project/Activity: The Los Angeles Housing Authority requested a waiver of the 21 week limit on short-term rent, mortgage, and utility assistance for 2,159 individuals reaching their time limitation, so that they may be able to continue to receive such assistance.

Nature of Requirement: Section 574.330(a)(1) states that rent, mortgage, and utilities payments to prevent the homelessness of the tenant or mortgagor of a dwelling may not be provided to such an individual for these costs accruing over a period of more than 21 weeks in any 52-week period. Section 574.330 (a)(2) states that HUD may waive, as it determines appropriate, the limitations of paragraph (a)(1) and will favorably consider a waiver based on the good faith effort of a project sponsor to provide housing under subparagraph (c).

Granted By: Roy A. Bernardi, Assistant Secretary for Community Planning and Development.

Date Granted: January 14, 2003.

Reason Waived: The Department reviewed the city's documented attachment and determined that the city has satisfied the requirements of the 21-week limitation for the individuals. Further, the city's housing specialists have made a good faith effort to secure permanent housing for the client's level of need, but such housing is not available in the current living environment.

Contact: Cornelia Robertson-Terry, Office of Community Planning and Development, Room 7152, Department of Housing and Urban Development, 451 Seventh Street, SW., Washington, DC 20410-7000; telephone: (202) 708-2565.

II. Regulatory Waivers Granted by the Office of Housing

For further information about the following waivers actions, please see the name of the contact person who immediately follows the description of the waiver granted.

• Regulation: 24 CFR 200.54(a).

Project/Activity: Quail Run Apartments, Peoria, AZ; Project Number: 123-35370.

Nature of Requirement: Section 200.54(a) establishes the procedures for a pro-rata disbursement of the mortgagor's front money escrow funds and Federal Housing Administration (FHA) insured proceeds for the subject property.

Granted By: John C. Weicher, Assistant Secretary for Housing-Federal Housing Commissioner.

Date Granted: January 31, 2003.

Reason Waived: The regulation was waived since the front money escrow is so large, the insured proceeds would not be disbursed for several months, resulting in payment of extension fees to the investors who purchased the Government National Mortgage Association (GNMA) mortgage-backed securities. Providing a waiver of 24 CFR 200.54(a) permitted the Phoenix Multifamily Program Center to approve a pro-rata disbursement of front money and mortgage proceeds, thereby allowing the mortgagee not to pay GNMA extension fees.

Contact: Michael McCullough, Director, Office of Multifamily Development, Department of Housing and Urban Development, 451 Seventh Street, SW., Washington, DC 20410-8000; telephone: (202) 708-1142.

• Regulation: 24 CFR 200.54(a).

Project/Activity: H.J. Heinz Lofts, Pittsburgh, Allegheny County Project Number: 033-35246.

Nature of Requirement: Section 200.54(a) establishes the procedures for a pro-rata disbursement of the mortgagor's front money escrow funds and FHA-insured proceeds for the subject property.

Granted By: John C. Weicher, Assistant Secretary for Housing-Federal Housing Commissioner.

Date Granted: February 26, 2003.

Reason Waived: The regulation was waived since the front money escrow is so large, the insured proceeds would not be disbursed for 11 or 12 months, resulting in payment of extension fees to the investors who purchased the GNMA mortgage-backed securities. Providing a waiver of 24 CFR 200.54(a) permitted the Philadelphia Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-8000; telephone: (202) 708-1142.

• Regulation: 24 CFR 200.54(a).

Project/Activity: St. Edmunds Meadows, Chicago, IL; Project Number: 071-35719.

Nature of Requirement: Section 200.54(a) establishes the procedures for a pro-rata disbursement of the mortgagor's front money escrow funds and FHA-insured proceeds for the subject property.

Granted By: John C. Weicher, Assistant Secretary for Housing-Federal Housing Commissioner.

Date Granted: March 13, 2003.

Reason Waived: The regulation was waived since the front money escrow is so large, the insured proceeds would not be disbursed for at least 8-10 months after initial endorsement, resulting in payment of extension fees to the investors who purchased GNMA mortgage-backed securities. Providing a waiver of 24 CFR 200.54(a) permitted the Chicago Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-8000; telephone: (202) 708-1142.

• Regulation: 24 CFR 200.54(a).

Project/Activity: Harold Washington Unity Cooperative, Chicago, IL; Project Number: 071-32140.

Nature of Requirement: Section 200.54(a) establishes the procedures for a pro-rata disbursement of the mortgagor's front money escrow funds and FHA-insured proceeds for the subject property.

Granted By: John C. Weicher, Assistant Secretary for Housing-Federal Housing Commissioner.

Date Granted: March 13, 2003.

Reason Waived: The regulation was waived since the front money escrow is so large, the insured proceeds would not be disbursed for at least 6-8 months after initial endorsement, resulting in payment of extension fees to the investors who purchased GNMA mortgage-backed securities. Providing a waiver of 24 CFR 200.54(a) permitted the Chicago Multifamily Hub to approve a pro-rata disbursement of front money and mortgage proceeds, thereby allowing the mortgagee not to pay GNMA extension fees.

Contact: Michael McCullough, Director, Office of Multifamily Development, Department of Housing and Urban Development, 451 Seventh Street, SW., Washington, DC 20410-8000; telephone: (202) 708-1142.

• Regulation: 24 CFR 203.402(j).

Project/Activity: Single-family claims submitted on dwellings in Planned Unit Developments (PUDs).

Nature of Requirement: 24 CFR 203.402(j) provides that mortgage lenders may include in their claim, any charges for the administration, operation, maintenance, and repair of community-owned property paid by the mortgage lender for the purpose of discharging an obligation arising out of a covenant filed for record and approved by the Secretary prior to the issuance of the mortgage, and charges for certain repairs to the mortgaged property resulting from damage or neglect.

Granted by: John C. Weicher, Assistant Secretary for Housing-Federal Housing Commissioner.

Date Granted: February 27, 2003.

Reason Waived: On January 22, 2003, in HUD Mortgagee Letter 2003-02, the Department eliminated FHA approval of a PUD as a precondition for placing a FHA mortgage on a dwelling located in the development. This prior approval constituted the approval by the Secretary prior to the issuance of the mortgage, referred to in 24 CFR 203.402(j). The waiver was granted to allow mortgage lenders submitting mortgage insurance claims to include expenditures on assessments and liens on the mortgaged property as the result of charges related to the care of community-owned property. Otherwise, lenders would be denied such claims, which would be inconsistent with HUD's insurance payment policy and discourage lender participation in FHA programs.

Contact: Vance Morris, Director, Office of Single Family Program Development, Department of Housing and Urban Development, 451 Seventh Street, SW., Washington, DC 20410-8000; telephone: (202) 708-2121.

• Regulation: 24 CFR 291.210(a).

Project/Activity: Teacher-Next-Door Sales Program, Nationwide.

Nature of Requirement: 24 CFR 291.210(a) permits direct sales at deep discounts off the list price of properties sold without mortgage insurance to governmental entities and private nonprofit organizations for use in HUD and local housing or homeless programs.

Granted by: John C. Weicher, Assistant Secretary for Housing-Federal Housing Commissioner.

Date Granted: March 6, 2003.

Reason Waived: The Teacher-Next-Door Initiative gives teachers the opportunity to live and work in communities where they are most needed. The integration of teachers, who are role models and mentors, into a community enhances the community's quality of life. To date the Teacher-Next-Door Initiative has enabled HUD to dispose of approximately 2,500 properties from its inventory resulting in homeownership for an equivalent number of qualified buyers and increasing owner-occupant single-family households in revitalization areas. This waiver will continue to make properties available to teachers with discounts.

Contact: Joseph McCloskey, Director, Office of Single Family Asset Management, Department of Housing and Urban Development, 451 Seventh Street, SW., Washington, DC 20410-7000; telephone: (202) 708-1672.

• Regulation: 24 CFR 401.600.

Project/Activity: The following projects requested waivers to the 12-month limit at above-market rents (24 CFR 491.600):

FHA No. | Project name | State
08435189 | Branson Manor | MO
02335206 | Chateau Apartments | MA
10135316 | Cottonwood Apartments | CO
07335381 | Crossings I | IN
06435206 | Cypress Garden Apartments | LA
05335366 | Duplin County Housing | NC
06235566 | Elmwood Apartments | AL
04335275 | Greenfield Meadows | OH
08335267 | Lakeland Wesley Village I | KY
01235452 | Morrisania IV | NY
04235301 | Newman Highland Square | OH
11735191 | Rolling Green Apartments | OK
04235331 | Shaker Boulevard Gardens | OH
08335338 | Vernon Manor Apartments | KY
04235266 | Westview Apartments | OH

Nature of Requirement: Section 401.600 requires that projects be marked down to market rents within 12 months of their first expiration date after January 1, 1998. The intent of this provision is to ensure timely processing of requests for restructuring and that the properties will not default on their FHA-insured mortgages during the restructuring process.

Granted By: John C. Weicher, Assistant Secretary for Housing-Federal Housing Commissioner.

Date Granted: January 16, 2003.

Reason Waived: The projects listed above were not assigned to the participating administrative entities (PAEs) in a timely manner or for which the restructuring analysis was unavoidably delayed due to no fault of the owner.

Contact: Norman Dailey, Office of Multifamily Housing Assistance Restructuring, Department of Housing and Urban Development, Portals Building, Suite 400, 1280 Maryland Avenue, SW., Washington, DC 20410-8000; telephone: (202) 708-3856.

• Regulation: 24 CFR 401.600.

Project/Activity: The following projects requested waivers to the 12-month limit at above-market rents (24 CFR 491.600):

FHA No. | Project name | State
01735184 | Abbott Towers/Enterprise Apts. | CT
04535148 | Adams Landing | WV
01257144 | Albert Goodman Plaza | NY
07235081 | Bissel Apartments | IL
01257141 | Bruckner Houses | NY
04235342 | Bucyrus Plaza | OH
07335375 | Country Apts. (Brownstown Apts.) | IN
08535277 | Flat River Apartments | MO
01257088 | Greene Park Arms | NY
01235410 | John Crawford Snr. Citizen Housing | NY
04235365 | Lake Avenue Commons | OH
06235304 | Medical Center Terrace | AL
01257158 | Monterey Gardens | NY
11535194 | Nolan Terrace | TX
08335321 | Osage Estates | KY
03235022 | Prestwyck Apts. | DE
01257148 | The Gateways (Greenport Apts.) | NY
02335253 | Villa Nueva Vista | MA
04235313 | William E. Fowler, Sr. Apts. II | OH
01335097 | Woodsboro Apartments | NY

Nature of Requirement: Section 401.600 requires that projects be marked down to market rents within 12 months of their first expiration date after January 1, 1998. The intent of this provision is to ensure timely processing of requests for restructuring and that the properties will not default on their FHA-insured mortgages during the restructuring process.

Granted By: John C. Weicher, Assistant Secretary for Housing-Federal Housing Commissioner.

Date Granted: February 19, 2003.

Reason Waived: The projects listed above were not assigned to the participating administrative entities (PAEs) in a timely manner or for which the restructuring analysis was unavoidably delayed due to no fault of the owner.

Contact: Norman Dailey, Office of Multifamily Housing Assistance Restructuring, Department of Housing and Urban Development, Portals Building, Suite 400, 1280 Maryland Avenue, SW., Washington, DC 20410-8000; telephone: (202) 708-3856.

• Regulation: 24 CFR 401.600.

Project/Activity: The following projects requested waivers to the 12-month limit at above-market rents (24 CFR 491.600):

FHA No. | Project name | State
04644122 | Alms Hill Apartments | OH
03335087 | Cider Mill Apartments | PA
03435185 | Cobbs Creek NSA | PA
06235333 | Crossgates Apartments | AL
06735253 | Crystalwood Apartments | FL
06535574 | Earnestine McNease Apartments | MS
05411049 | Forest Villa Apartments | SC
06535575 | Goodhaven Manor Apartments | MS
04335176 | Hillside Apartments | OH
01257211 | Kingsbridge Decatur Phase 1 | NY
05635132 | Miramar Housing | PR
05435466 | The Carolina | SC

Nature of Requirement: Section 401.600 requires that projects be marked down to market rents within 12 months of their first expiration date after January 1, 1998. The intent of this provision is to ensure timely processing of requests for restructuring and that the properties will not default on their FHA-insured mortgages during the restructuring process.

Granted By: John C. Weicher, Assistant Secretary for Housing-Federal Housing Commissioner.

Date Granted: March 20, 2003.

Reason Waived: The projects listed above were not assigned to the participating administrative entities (PAEs) in a timely manner or for which the restructuring analysis was unavoidably delayed due to no fault of the owner.

Contact: Norman Dailey, Office of Multifamily Housing Assistance Restructuring, Department of Housing and Urban Development, Portals Building, Suite 400, 1280 Maryland Avenue, SW., Washington, DC 20410-8000; telephone: (202) 708-3856.

• Regulation: 24 CFR 883.606(b).

Project/Activity: Pennsylvania Housing Finance Agency.

Nature of Requirement: Section 883.606(b) prohibits the collection of an override and a Housing Assistance Payments Contract administration fee in connection with the same project.

Granted By: John C. Weicher, Assistant Secretary for Housing-Federal Housing Commissioner.

Date Granted: February 28, 2003.

Reason Waived: HUD requested the Pennsylvania Housing Authority's assistance in responding to a finding made by the General Accounting Office that HUD, in approving bond refunding proposals submitted by state housing finance agencies in the early 1990s, did not enforce a regulatory prohibition of collection of both contract administration fees and bond yield override in connection with the same project (24 CFR part 883, section 883.606(b)) and neglected to issue formal waivers at the time of approval. HUD proposed to correct this oversight by providing an opportunity to agencies in violation of this rule to request and justify formal waivers. The Pennsylvania Housing Authority submitted an application dated January 31, 2001, in connection with its refunding in 1990 of three series of bonds issued in 1982 which financed construction of 32 section 8 assisted projects which received a Financing Adjustment Factor. HUD finds that the uses of the revenues are consistent with the objectives of the McKinney Act bond refunding program and would be impractical to upset the security arrangements that were relied upon by rating agencies, bond underwriters, and investors in the marketing of bonds. Therefore, it would be unreasonable to enforce the regulation retroactively.

Contact: Beverly J. Miller, Director, Office of Asset Management, Department of Housing and Urban Development, 451 Seventh Street, SW., Room 6160, Washington, DC 20410-8000; telephone: (202) 708-3730.

• Regulation: 24 CFR 891.100(d).

Project/Activity: Burnside Station, Portland, OR; Project Number: 126-HD031/OR16-Q011-002.

Nature of Requirement: Section 891.100(d) prohibits amendment of the amount of approved capital advance funds prior to initial closing.

Granted By: John C. Weicher, Assistant Secretary for Housing-Federal Housing Commissioner.

Date Granted: January 7, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Holiday Heights VOA Living Center, Bradenton, FL; Project Number: 067-HD079/FL29-Q001-004.

Nature of Requirement: Section 891.100(d) prohibits amendment of the amount of approved capital advance funds prior to initial closing.

Granted By: John C. Weicher, Assistant Secretary for Housing-Federal Housing Commissioner.

Date Granted: January 7, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: 128th Place, St. Petersburg, FL; Project Number: 067-HD085/FL29-Q011-005.

Nature of Requirement: Section 891.100(d) prohibits amendment of the amount of approved capital advance funds prior to initial closing.

Granted By: John C. Weicher, Assistant Secretary for Housing-Federal Housing Commissioner.

Date Granted: January 7, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Montbello VOA Elderly Housing, Denver, CO; Project Number: 101-EE049/CO99-S001-001.

Nature of Requirement: Section 891.100(d) prohibits amendment of the amount of approved capital advance funds prior to initial closing.

Granted By: John C. Weicher, Assistant Secretary for Housing-Federal Housing Commissioner.

Date Granted: January 7, 2003.

Reason Waived: The sponsor exhausted all efforts to obtain additional funding. The costs of construction and Davis Bacon wages have increased considerably. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: La Playa Apartments, San Francisco, CA; Project Number: 121-HD065/CA39-Q981-002.

Nature of Requirement: Section 891.100(d) prohibits amendment of the amount of approved capital advance funds prior to initial closing.

Granted By: John C. Weicher, Assistant Secretary for Housing-Federal Housing Commissioner.

Date Granted: January 10, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: ASI-Jackson County, Medford, OR; Project Number: 126-HD028/OR16-Q991-002.

Nature of Requirement: Section 891.100(d) prohibits amendment of the amount of approved capital advance funds prior to initial closing.

Granted By: John C. Weicher, Assistant Secretary for Housing-Federal Housing Commissioner.

Date Granted: January 10, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: St. Peter Claver Courts, Robbins, IL; Project Number: 071-EE152/IL06-S991-011.

Nature of Requirement: Section 891.100(d) prohibits amendment of the amount of approved capital advance funds prior to initial closing.

Granted By: John C. Weicher, Assistant Secretary for Housing-Federal Housing Commissioner.

Date Granted: January 15, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Shenango Presbyterian Senior Housing, McKeesport, PA; Project Number: 033-EE084/PA28-S961-011.

Nature of Requirement: Section 891.100(d) prohibits amendment of the amount of approved capital advance funds prior to initial closing.

Granted By: John C. Weicher, Assistant Secretary for Housing-Federal Housing Commissioner.

Date Granted: February 13, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Yakubian Homes, Alton, IL; Project Number: 072-HD110/IL06-Q991-007.

Nature of Requirement: Section 891.100(d) prohibits amendment of the amount of approved capital advance funds prior to initial closing.

Granted By: John C. Weicher, Assistant Secretary for Housing-Federal Housing Commissioner.

Date Granted: February 26, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: The Center on Halsted, Chicago, IL; Project Number: 071-HD122/IL06-Q011-002.

Nature of Requirement: Section 891.100(d) prohibits amendment of the amount of approved capital advance funds prior to initial closing.

Granted By: John C. Weicher, Assistant Secretary for Housing-Federal Housing Commissioner.

Date Granted: February 26, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Heritage Field I, Decatur, IL; Project Number: 072-HD116/IL06-Q011-003.

Nature of Requirement: Section 891.100(d) prohibits amendment of the amount of approved capital advance funds prior to initial closing.

Granted By: John C. Weicher, Assistant Secretary for Housing-Federal Housing Commissioner.

Date Granted: February 26, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: McMillon Adventist Estates, Birmingham, AL; Project Number: 062-EE052/AL09-S011-005.

Nature of Requirement: Section 891.100(d) prohibits amendment of the amount of approved capital advance funds prior to initial closing.

Granted By: John C. Weicher, Assistant Secretary for Housing-Federal Housing Commissioner.

Date Granted: March 14, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: South Daytona Beach Good Samaritan Housing, Inc., South Daytona Beach, FL; Project Number: 067-EE111/FL29-S001-011.

Nature of Requirement: Section 891.100(d) prohibits amendment of the amount of approved capital advance funds prior to initial closing.

Granted By: John C. Weicher, Assistant Secretary for Housing-Federal Housing Commissioner.

Date Granted: March 14, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: International Hotel Senior Housing, San Francisco, CA; Project Number: 121-EE059/CA39-S941-011.

Nature of Requirement: Section 891.100(d) prohibits amendment of the amount of approved capital advance funds prior to initial closing.

Granted By: John C. Weicher, Assistant Secretary for Housing-Federal Housing Commissioner.

Date Granted: March 20, 2003.

Reason Waived: The sponsor exhausted all efforts to obtain additional funding. The project is economically designed and is comparable in cost to similar projects developed in the area. Construction costs for the project are higher than typical for a modestly designed project because the design is a combination of historic preservation issues and urban design objectives of the city and county of San Francisco.

Contact: Willie Spearmon, Director, Office of Housing Assistance and Grant Administration, Department of Housing and Urban Development, 451 Seventh Street, SW., Washington, DC 20410-8000; telephone: (202) 708-3000.

• Regulation: 24 CFR 891.100(d).

Project/Activity: Simpson Mid-Town Apartments, Philadelphia, PA; Project Number 034-EE107/PA26-S001-007.

Nature of Requirement: Section 891.100(d) prohibits amendment of the amount of approved capital advance funds prior to initial closing.

Granted By: John C. Weicher, Assistant Secretary for Housing-Federal Housing Commissioner.

Date Granted: March 24, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Nashville Supportive Housing, Nashville-Davidson, TN; Project Number: 086-HD016/TN43-Q971-001.

Nature of Requirement: Section 891.100(d) prohibits amendment of the amount of approved capital advance funds prior to initial closing.

Granted By: John C. Weicher, Assistant Secretary for Housing-Federal Housing Commissioner.

Date Granted: March 25, 2003.

Reason Waived: The sponsor will contribute $11,000 toward the shortfall. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d).

Project/Activity: Villa Seton, Inc., Port St. Lucie, FL; Project Number: 067-EE107/FL29-S001-005.

Nature of Requirement: Section 891.100(d) prohibits amendment of the amount of approved capital advance funds prior to initial closing.

Granted By: John C. Weicher, Assistant Secretary for Housing-Federal Housing Commissioner.

Date Granted: March 31, 2003.

Reason Waived: The sponsor exhausted all efforts to obtain additional funding. The project is economically designed and is comparable in cost to similar projects developed in the area.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Fort Collins Volunteers of America (VOA) Elderly Housing, Fort Collins, CO; Project Number: 101-EE045/CO99-S991-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: January 7, 2003.

Reason Waived: The sponsor exhausted all efforts to obtain additional funding. The project is economically designed and is comparable in cost to similar projects developed in the area. The project experienced delays due to the need to redesign the project as a result of significant increases in the costs of construction and Davis Bacon wages.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Oak Springs Villas, Austin, TX; Project Number: 115-EE059/TX59-S001-003.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: January 7, 2003.

Reason Waived: The sponsor exhausted all efforts to obtain additional funding. The project is economically designed and is comparable in cost to similar projects developed in the area. Delays were due to the need to have the land surveyed, platted, and rezoned.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Shenango Presbyterian Senior Housing, McKeesport, PA; Project Number: 033-EE084/PA28-S961-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: January 7, 2003.

Reason Waived: The sponsor exhausted all efforts to obtain additional funding. The project is economically designed and is comparable in cost to similar projects developed in the area. The sponsor needed additional time to secure another site and obtain additional funds from outside sources.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: New Life Homes II, Albuquerque, NM; Project Number: 116-HD015/NM16-Q001-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: March 4, 2003.

Reason Waived: The sponsor exhausted all efforts to obtain additional funding. The project is economically designed and is comparable in cost to similar projects developed in the area. Additional time was needed for HUD to process the firm commitment, and the sponsor to prepare and submit the closing package.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Tremont Terrace, Fort Worth, TX; Project Number: 113-HD018/TX21-Q001-001.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: March 14, 2003.

Reason Waived: The sponsor exhausted all efforts to obtain additional funding. The project is economically designed and is comparable in cost to similar projects developed in the area. Additional time was needed to identify additional funds and to make design changes.

Contact: Willie Spearmon, Director, Office of Housing Assistance and Grant Administration, Department of Housing and Urban Development, 451 Seventh Street, SW., Washington, DC 20410-8000; telephone: (202) 708-3000.

• Regulation: 24 CFR 891.100(d) and 24 CFR 891.165.

Project/Activity: Albuquerque VOA Elderly Housing, Project Number: 116-EE022/NM16-S001-003.

Nature of Requirement: Section 891.100(d) prohibits amendment of the amount of approved capital advance funds prior to initial closing. Section 891.165 provides that the duration of the fund reservation of the capital advance is 18 months from the date of issuance with limited exceptions up to 24 months, as approved by HUD on a case-by-case basis.

Granted By: John C. Weicher, Assistant Secretary for Housing-Federal Housing Commissioner.

Date Granted: March 20, 2003.

Reason Waived: The sponsor exhausted all efforts to obtain additional funding. The project is economically designed and is comparable in cost to similar projects developed in the area. HUD needed additional time to issue the Firm Commitment and to review the initial closing documents.

Contact: Willie Spearmon, Director, Office of Housing Assistance and Grant Administration, Department of Housing and Urban Development, 451 Seventh Street, SW., Washington, DC 20410-8000; telephone: (202) 708-3000.

• Regulation: 24 CFR 891.165.

Project/Activity: Las Golondrinas, San Jose, CA; Project Number: 121-EE138/CA39-S001-009.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 7, 2003.

Reason Waived: Additional time was needed for the City Council to approve the secondary financing commitment by the city of San Jose.

Contact: Willie Spearmon, Director, Office of Housing Assistance and Grant Administration, Department of Housing and Urban Development, 451 Seventh Street, SW., Washington, DC 20410-8000; telephone: (202) 708-3000.

• Regulation: 24 CFR 891.165.

Project/Activity: Venable Apartments at Stadium Place, Baltimore, MD; Project Number: 052-EE036/MD06-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 7, 2003.

Reason Waived: Additional time was needed to review the secondary financing documents and for the project to reach initial closing.

Contact: Willie Spearmon, Director, Office of Housing Assistance and Grant Administration, Department of Housing and Urban Development, 451 Seventh Street, SW., Washington, DC 20410-8000; telephone: (202) 708-3000.

• Regulation: 24 CFR 891.165.

Project/Activity: AHEPA 410, Incorporated, Daytona Beach, FL; Project Number: 067-EE110/FL29-S001-009.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 7, 2003.

Reason Waived: HUD needed additional time to process the revised Firm Commitment application and for the project to reach initial closing.

Contact: Willie Spearmon, Director, Office of Housing Assistance and Grant Administration, Department of Housing and Urban Development, 451 Seventh Street, SW., Washington, DC 20410-8000; telephone: (202) 708-3000.

• Regulation: 24 CFR 891.165.

Project/Activity: AHEPA 23—III Apartments, Montgomery, AL; Project Number: 062-EE046/AL09-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 7, 2003.

Reason Waived: The project experienced delays while the sponsor attempted to obtain secondary financing in order to meet funding shortfalls.

Contact: Willie Spearmon, Director, Office of Housing Assistance and Grant Administration, Department of Housing and Urban Development, 451 Seventh Street, SW., Washington, DC 20410-8000; telephone: (202) 708-3000.

• Regulation: 24 CFR 891.165.

Project/Activity: South Daytona Good Samaritan Housing, South Daytona Beach, FL; Project Number: 067-EE111/FL29-S001-011.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 7, 2003.

Reason Waived: Delays were experienced by the project while the sponsor attempted to obtain secondary financing and to redesign the project.

Contact: Willie Spearmon, Director, Office of Housing Assistance and Grant Administration, Department of Housing and Urban Development, 451 Seventh Street, SW., Washington, DC 20410-8000; telephone: (202) 708-3000.

• Regulation: 24 CFR 891.165.

Project/Activity: Ottawa River Estates, Toledo, OH; Project Number: 042-HD072/OH12-Q971-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 7, 2003.

Reason Waived: The sponsor is currently tied up in litigation concerning the sale of the land designated for the project.

Contact: Willie Spearmon, Director, Office of Housing Assistance and Grant Administration, Department of Housing and Urban Development, 451 Seventh Street, SW., Washington, DC 20410-8000; telephone: (202) 708-3000.

• Regulation: 24 CFR 891.165.

Project/Activity: Melvin T. Walls Manor, Ypsilanti, MI; Project Number: 044-EE070/MI23-S000-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 7, 2003.

Reason Waived: The owner needed additional time to obtain funds from other sources and to redesign the project.

Contact: Willie Spearmon, Director, Office of Housing Assistance and Grant Administration, Department of Housing and Urban Development, 451 Seventh Street, SW., Washington, DC 20410-8000; telephone: (202) 708-3000.

• Regulation: 24 CFR 891.165.

Project/Activity: Concerned Care, Incorporated, Kansas City, MO; Project Number: 084-HD033/MO16-Q001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 10, 2003.

Reason Waived: The owner needed additional time to complete site negotiations, and for the city to review and approve the final plat process. The engineers needed additional time to complete the land disturbance plan and drainage study, which delayed the architect's completion of the drawings.

Contact: Willie Spearmon, Director, Office of Housing Assistance and Grant Administration, Department of Housing and Urban Development, 451 Seventh Street, SW., Washington, DC 20410-8000; telephone: (202) 708-3000.

• Regulation: 24 CFR 891.165.

Project/Activity: Delran Consumer Home, Delran, NJ; Project Number: 035-HD046/NJ39-Q001-015.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 20, 2003.

Reason Waived: Delays were incurred by the project while the sponsor obtained control of another site.

Contact: Willie Spearmon, Director, Office of Housing Assistance and Grant Administration, Department of Housing and Urban Development, 451 Seventh Street, SW., Washington, DC 20410-8000; telephone: (202) 708-3000.

• Regulation: 24 CFR 891.165.

Project/Activity: Holiday Heights VOA Living Center, Bradenton, FL; Project Number: 067-HD079/FL29-Q001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 10, 2003.

Reason Waived: Delays were experienced by the project while the sponsor attempted to acquire secondary financing.

Contact: Willie Spearmon, Director, Office of Housing Assistance and Grant Administration, Department of Housing and Urban Development, 451 Seventh Street, SW., Washington, DC 20410-8000; telephone: (202) 708-3000.

• Regulation: 24 CFR 891.165.

Project/Activity: AHEPA 489 Apartments, New Port Richey, FL; Project Number: 067-EE109/FL29-S001-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 10, 2003.

Reason Waived: Delays were experienced by the project while the owner prepared the closing documents.

Contact: Willie Spearmon, Director, Office of Housing Assistance and Grant Administration, Department of Housing and Urban Development, 451 Seventh Street, SW., Washington, DC 20410-8000; telephone: (202) 708-3000.

• Regulation: 24 CFR 891.165.

Project/Activity: Meadow Park, Sarasota, FL; Project Number: 067-EE106/FL29-S001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 10, 2003.

Reason Waived: Additional time was needed for the owner to revise the firm commitment application and for HUD to reprocess the documents.

Contact: Willie Spearmon, Director, Office of Housing Assistance and Grant Administration, Department of Housing and Urban Development, 451 Seventh Street, SW., Washington, DC 20410-8000; telephone: (202) 708-3000.

• Regulation: 24 CFR 891.165.

Project/Activity: Ridgeview Terrace II, Ashtabula, OH; Project Number: 042-HD084/OH12-Q991-005.

Nature Of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 10, 2003.

Reason Waived: The project experienced delays due to community opposition.

Contact: Willie Spearmon, Director, Office of Housing Assistance and Grant Administration, Department of Housing and Urban Development, 451 Seventh Street, SW., Washington, DC 20410-8000; telephone: (202) 708-3000.

• Regulation: 24 CFR 891.165.

Project/Activity: NBA Dogwood Plaza, Boise, ID; Project Number: 124-EE020/ID16-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 10, 2003.

Reason Waived: The project experienced delays while the sponsor located another site since the purchase price of the original site exceeded its appraised value.

Contact: Willie Spearmon, Director, Office of Housing Assistance and Grant Administration, Department of Housing and Urban Development, 451 Seventh Street, SW., Washington, DC 20410-8000; telephone: (202) 708-3000.

• Regulation: 24 CFR 891.165.

Project/Activity: Azalea Place Apartments, Vancouver, WA; Project Number: 126-HD029/OR16-Q001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 13, 2003.

Reason Waived: Additional time was needed for the owner to complete modifications based on Clark County's building permit requirements.

Contact: Willie Spearmon, Director, Office of Housing Assistance and Grant Administration, Department of Housing and Urban Development, 451 Seventh Street, SW., Washington, DC 20410-8000; telephone: (202) 708-3000.

• Regulation: 24 CFR 891.165.

Project/Activity: Harvard Square, Irvine, CA; Project Number: 143-HD011/CA43-Q001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 15, 2003.

Reason Waived: Delays were incurred by the project due to additional time needed to correct unexpected site conditions, and to comply with requirements of the city's planning commission and permit office.

Contact: Willie Spearmon, Director, Office of Housing Assistance and Grant Administration, Department of Housing and Urban Development, 451 Seventh Street, SW., Washington, DC 20410-8000; telephone: (202) 708-3000.

• Regulation: 24 CFR 891.165.

Project/Activity: Project Live XI Consumer Home, East Orange, NJ; Project Number: 031-HD098/NJ39-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 22, 2003.

Reason Waived: HUD needed additional time to review the initial closing documents.

Contact: Willie Spearmon, Director, Office of Housing Assistance and Grant Administration, Department of Housing and Urban Development, 451 Seventh Street, SW., Washington, DC 20410-8000; telephone: (202) 708-3000.

• Regulation: 24 CFR 891.165.

Project/Activity: Congress Street Apartments, New Port Richey, FL; Project Number: 067-HD077/FL29-Q001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 24, 2003.

Reason Waived: The project has been delayed due to litigation involving the rezoning of one of the sites.

Contact: Willie Spearmon, Director, Office of Housing Assistance and Grant Administration, Department of Housing and Urban Development, 451 Seventh Street, SW., Washington, DC 20410-8000; telephone: (202) 708-3000.

• Regulation: 24 CFR 891.165.

Project/Activity: Bridgeway Apartments II, Picayune, MS; Project Number: 065-HD025/MS26-Q001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 24, 2003.

Reason Waived: Additional time was needed to reprocess the firm commitment and for the owner to prepare and submit the closing package.

Contact: Willie Spearmon, Director, Office of Housing Assistance and Grant Administration, Department of Housing and Urban Development, 451 Seventh Street, SW., Washington, DC 20410-8000; telephone: (202) 708-3000.

• Regulation: 24 CFR 891.165.

Project/Activity: Hale Mahaolu Econo 5, Lahaina, HI; Project Number: 140-EE021/HI10-S001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 24, 2003.

Reason Waived: Additional time was needed because construction problems with an adjacent section 202 project delayed the start of construction for the Hale Mahaolu Econo 5 project, and the sponsor needed additional time to locate another contractor.

Contact: Willie Spearmon, Director, Office of Housing Assistance and Grant Administration, Department of Housing and Urban Development, 451 Seventh Street, SW., Washington, DC 20410-8000; telephone: (202) 708-3000.

• Regulation: 24 CFR 891.165.

Project/Activity: Community Options Middlesex, Old Bridge, NJ; Project Number: 031-HD111/NJ39-Q001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 28, 2003.

Reason Waived: Additional time was needed because the sponsor had to obtain control of a different site from the site “identified” in the application.

Contact: Willie Spearmon, Director, Office of Housing Assistance and Grant Administration, Department of Housing and Urban Development, 451 Seventh Street, SW., Washington, DC 20410-8000; telephone: (202) 708-3000.

• Regulation: 24 CFR 891.165.

Project/Activity: Judson Terrace Lodge, San Luis Obispo, CA; Project Number: 122-EE163/CA16-S991-014.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 28, 2003.

Reason Waived: Additional time was needed to transfer land from an adjacent property to the Section 202 project in order to provide adequate access to the Section 202 project.

Contact: Willie Spearmon, Director, Office of Housing Assistance and Grant Administration, Department of Housing and Urban Development, 451 Seventh Street, SW., Washington, DC 20410-8000; telephone: (202) 708-3000.

• Regulation: 24 CFR 891.165.

Project/Activity: Main Street New Hope Courtyard Apartments, Los Angeles, CA; Project Number: 122-HD127/CA16-Q991-011.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 30, 2003.

Reason Waived: Additional time was needed to prepare the initial closing documents.

Contact: Willie Spearmon, Director, Office of Housing Assistance and Grant Administration, Department of Housing and Urban Development, 451 Seventh Street, SW., Washington, DC 20410-8000; telephone: (202) 708-3000.

• Regulation: 24 CFR 891.165.

Project/Activity: Cinnaminson Consumer House, Cinnaminson, NJ; Project Number: 035-HD044/NJ39-Q991-008.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 30, 2003.

Reason Waived: HUD needed additional time to review the documents and schedule the initial closing.

Contact: Willie Spearmon, Director, Office of Housing Assistance and Grant Administration, Department of Housing and Urban Development, 451 Seventh Street, SW., Washington, DC 20410-8000; telephone: (202) 708-3000.

• Regulation: 24 CFR 891.165.

Project/Activity: Yakubian Homes, Alton, IL; Project Number: 072-HD110/IL06-Q991-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 30, 2003.

Reason Waived: Additional time was needed to process and issue the Firm Commitment application.

Contact: Willie Spearmon, Director, Office of Housing Assistance and Grant Administration, Department of Housing and Urban Development, 451 Seventh Street, SW., Washington, DC 20410-8000; telephone: (202) 708-3000.

• Regulation: 24 CFR 891.165.

Project/Activity: Community Options Siek Road, Butler, NJ; Project Number: 031-HD110/NJ39-Q001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 30, 2003.

Reason Waived: The sponsor needed more time to obtain control of a different site from the site “identified” in the application.

Contact: Willie Spearmon, Director, Office of Housing Assistance and Grant Administration, Department of Housing and Urban Development, 451 Seventh Street, SW., Washington, DC 20410-8000; telephone: (202) 708-3000.

• Regulation: 24 CFR 891.165.

Project/Activity: Chesapeake Supportive Housing, Inc., Chesapeake, VA; Project Number: 051-HD074/VA36-Q981-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 31, 2003.

Reason Waived: The sponsor and co-sponsor needed additional time to gain title to the property and access to city infrastructure for the project site from the Chesapeake Redevelopment and Housing Authority.

Contact: Willie Spearmon, Director, Office of Housing Assistance and Grant Administration, Department of Housing and Urban Development, 451 Seventh Street, SW., Washington, DC 20410-8000; telephone: (202) 708-3000.

• Regulation: 24 CFR 891.165.

Project/Activity: Community Hope V Group Home, Washington Township, NJ; Project Number: 031-HD123/NJ39-Q001-014.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 31, 2003.

Reason Waived: The sponsor needed additional time to find an alternate site capable of alterations for accessibility. The sponsor also needed to resolve issues resulting from a change in contractors and the project's cost.

Contact: Willie Spearmon, Director, Office of Housing Assistance and Grant Administration, Department of Housing and Urban Development, 451 Seventh Street, SW., Washington, DC 20410-8000; telephone: (202) 708-3000.

• Regulation: 24 CFR 891.165.

Project/Activity: Edgecomb Woods, Windham, ME; Project Number: 024-EE053/ME36-S001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: January 31, 2003.

Reason Waived: The sponsor/owner needed additional time to locate an alternate site.

Contact: Willie Spearmon, Director, Office of Housing Assistance and Grant Administration, Department of Housing and Urban Development, 451 Seventh Street, SW., Washington, DC 20410-8000; telephone: (202) 708-3000.

• Regulation: 24 CFR 891.165.

Project/Activity: Community Hope III Group Home, Mt. Olive Township, NJ; Project Number: 031-HD115/NJ39-Q001-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 12, 2003.

Reason Waived: The sponsor needed additional time to find an alternate site capable of alterations for accessibility. The sponsor also needed to resolve issues resulting from a change in contractors and the project's cost.

Contact: Willie Spearmon, Director, Office of Housing Assistance and Grant Administration, Department of Housing and Urban Development, 451 Seventh Street, SW., Washington, DC 20410-8000; telephone: (202) 708-3000.

• Regulation: 24 CFR 891.165.

Project/Activity: Union City Senior Housing, Union City, CA; Project Number: 121-EE136/CA39-S001-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 12, 2003.

Reason Waived: The project has not been able to reach initial closing due to delays in obtaining secondary financing, plan permits, and a state prevailing wage determination.

Contact: Willie Spearmon, Director, Office of Housing Assistance and Grant Administration, Department of Housing and Urban Development, 451 Seventh Street, SW., Washington, DC 20410-8000; telephone: (202) 708-3000.

• Regulation: 24 CFR 891.165.

Project/Activity: Hillsborough County VOA Living Center III, Tampa, FL; Project Number: 067-HD080/FL29-Q001-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 12, 2003.

Reason Waived: The sponsor needed additional time to redesign the project and re-bid the construction contracts. The sponsor also needed additional time to resolve remaining issues and to prepare closing documents.

Contact: Willie Spearmon, Director, Office of Housing Assistance and Grant Administration, Department of Housing and Urban Development, 451 Seventh Street, SW., Washington, DC 20410-8000; telephone: (202) 708-3000.

• Regulation: 24 CFR 891.165.

Project/Activity: Creekside Gardens, Paso Robles, CA; Project Number: 122-EE162/CA16-S991-013.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 12, 2003.

Reason Waived: The sponsor needed additional time to bring the project in at a reasonable cost.

Contact: Willie Spearmon, Director, Office of Housing Assistance and Grant Administration, Department of Housing and Urban Development, 451 Seventh Street, SW., Washington, DC 20410-8000; telephone: (202) 708-3000.

• Regulation: 24 CFR 891.165.

Project/Activity: Hill House, Cleveland, OH; Project Number: 042-HD088/OH12-Q001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 13, 2003.

Reason Waived: HUD needed additional time to review and approve secondary financing documents received from the Ohio Department of Mental Health.

Contact: Willie Spearmon, Director, Office of Housing Assistance and Grant Administration, Department of Housing and Urban Development, 451 Seventh Street, SW., Washington, DC 20410-8000; telephone: (202) 708-3000.

• Regulation: 24 CFR 891.165.

Project/Activity: Go-Getters, Incorporated, Princess Anne, MD; Project Number: 052-EE035/MD06-S001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 13, 2003.

Reason Waived: The project experienced delays due to problems in securing a contractor at reasonable cost.

Contact: Willie Spearmon, Director, Office of Housing Assistance and Grant Administration, Department of Housing and Urban Development, 451 Seventh Street, SW., Washington, DC 20410-8000; telephone: (202) 708-3000.

• Regulation: 24 CFR 891.165.

Project/Activity: NCR of Harborcreek, Harborcreek, PA; Project Number: 033-EE105/PA28-S001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 13, 2003.

Reason Waived: The sponsor needed additional time to complete the remediation requirements. The site was contaminated.

Contact: Willie Spearmon, Director, Office of Housing Assistance and Grant Administration, Department of Housing and Urban Development, 451 Seventh Street, SW., Washington, DC 20410-8000; telephone: (202) 708-3000.

• Regulation: 24 CFR 891.165.

Project/Activity: ICAN Garden Apartments, Massillon, OH; Project Number: 042-HD090/OH12-Q001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 13, 2003.

Reason Waived: The sponsor/owner needed additional time to address deficiencies in the Firm Commitment application and to conduct value engineering with the contractor.

Contact: Willie Spearmon, Director, Office of Housing Assistance and Grant Administration, Department of Housing and Urban Development, 451 Seventh Street, SW., Washington, DC 20410-8000; telephone: (202) 708-3000.

• Regulation: 24 CFR 891.165.

Project/Activity: Sturgis Consumer Home, Edison, NJ; Project Number: 031-HD116/NJ39-Q001-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 13, 2003.

Reason Waived: The sponsor needed additional time for the Firm Commitment application to be submitted and processed because of the recent approval of the site change.

Contact: Willie Spearmon, Director, Office of Housing Assistance and Grant Administration, Department of Housing and Urban Development, 451 Seventh Street, SW., Washington, DC 20410-8000; telephone: (202) 708-3000.

• Regulation: 24 CFR 891.165.

Project/Activity: Presidio Village Senior Housing, Pittsburg, Contra Costa County, CA; Project Number: 121-EE134/CA39-S001-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 13, 2003.

Reason Waived: The sponsor needed additional time to secure a new prime contractor, new legal counsel, and additional funding.

Contact: Willie Spearmon, Director, Office of Housing Assistance and Grant Administration, Department of Housing and Urban Development, 451 Seventh Street, SW., Washington, DC 20410-8000; telephone: (202) 708-3000.

• Regulation: 24 CFR 891.165.

Project/Activity: Pohatcong Consumer Home, Phillipsburg, NJ; Project Number: 031-HD124/NJ39-Q001-016.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 13, 2003.

Reason Waived: The project experienced delays because the owner needed to redo the original drawings because of the excessive cost. A contractor had to be found who was willing to do the work at a reasonable cost.

Contact: Willie Spearmon, Director, Office of Housing Assistance and Grant Administration, Department of Housing and Urban Development, 451 Seventh Street, SW., Washington, DC 20410-8000; telephone: (202) 708-3000.

• Regulation: 24 CFR 891.165.

Project/Activity: Clark Place, Winchester, KY; Project Number: 083-HD063/KY36-Q001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 26, 2003.

Reason Waived: The project has been delayed because of environmental concerns as well as difficulties in obtaining gap financing. Additional time was needed to reach initial closing.

Contact: Willie Spearmon, Director, Office of Housing Assistance and Grant Administration, Department of Housing and Urban Development, 451 Seventh Street, SW., Washington, DC 20410-8000; telephone: (202) 708-3000.

• Regulation: 24 CFR 891.165.

Project/Activity: Independence Park Apartments, Farrell, PA; Project Number: 033-HD056/PA28-Q001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 26, 2003.

Reason Waived: The project experienced delays because a new site had to be located. It was discovered that the original site had unsuitable fill that could not feasibly be removed and replaced with suitable fill.

Contact: Willie Spearmon, Director, Office of Housing Assistance and Grant Administration, Department of Housing and Urban Development, 451 Seventh Street, SW., Washington, DC 20410-8000; telephone: (202) 708-3000.

• Regulation: 24 CFR 891.165.

Project/Activity: Rhinelander Disabled Housing, Rhinelander, Oneida County, WI; Project Number: 075-HD063/WI39-Q991-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 26, 2003.

Reason Waived: The owner needed additional time to locate an acceptable site.

Contact: Willie Spearmon, Director, Office of Housing Assistance and Grant Administration, Department of Housing and Urban Development, 451 Seventh Street, SW., Washington, DC 20410-8000; telephone: (202) 708-3000.

• Regulation: 24 CFR 891.165.

Project/Activity: Brookview Gardens, Toledo, OH; Project Number: 042-HD087/OH12-Q001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 26, 2003.

Reason Waived: HUD needed additional time to resolve issues with the sponsor/owner regarding operating costs and architectural concerns.

Contact: Willie Spearmon, Director, Office of Housing Assistance and Grant Administration, Department of Housing and Urban Development, 451 Seventh Street, SW., Washington, DC 20410-8000; telephone: (202) 708-3000.

• Regulation: 24 CFR 891.165.

Project/Activity: McTaggert Court I, Stow, OH; Project Number: 042-HD089/OH12-Q001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 26, 2003.

Reason Waived: The sponsor/owner needed additional time to find an alternate site twice due to neighborhood opposition.

Contact: Willie Spearmon, Director, Office of Housing Assistance and Grant Administration, Department of Housing and Urban Development, 451 Seventh Street, SW., Washington, DC 20410-8000; telephone: (202) 708-3000.

• Regulation: 24 CFR 891.165.

Project/Activity: YMCA of Metropolitan Chicago, IL; Project Number: 071-EE141/IL06-S981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 26, 2003.

Reason Waived: The sponsor/owner needed additional time for the Firm Commitment to be issued and initial closing to occur.

Contact: Willie Spearmon, Director, Office of Housing Assistance and Grant Administration, Department of Housing and Urban Development, 451 Seventh Street, SW., Washington, DC 20410-8000; telephone: (202) 708-3000.

• Regulation: 24 CFR 891.165.

Project/Activity: Oak Tree Apartments, Corporation, Huntington, WV; Project Number: 045-HD031/WV15-Q001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 28, 2003.

Reason Waived: HUD needed additional time to process the Firm Commitment application in order for the project to reach initial closing.

Contact: Willie Spearmon, Director, Office of Housing Assistance and Grant Administration, Department of Housing and Urban Development, 451 Seventh Street, SW., Washington, DC 20410-8000; telephone: (202) 708-3000.

• Regulation: 24 CFR 891.165.

Project/Activity: Bluegrass Village, Georgetown, KY; Project Number: 083-HD062/KY36-Q001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 4, 2003.

Reason Waived: The sponsor/owner had difficulty obtaining additional gap financing. Project delays were caused by environmental concerns and zoning issues.

Contact: Willie Spearmon, Director, Office of Housing Assistance and Grant Administration, Department of Housing and Urban Development, 451 Seventh Street, SW., Washington, DC 20410-8000; telephone: (202) 708-3000.

• Regulation: 24 CFR 891.165.

Project/Activity: Rhinelander Elderly Housing, Rhinelander, WI; Project Number: 075-EE090/WI39-S991-010.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 4, 2003.

Reason Waived: HUD needed additional time to process initial closing documents.

Contact: Willie Spearmon, Director, Office of Housing Assistance and Grant Administration, Department of Housing and Urban Development, 451 Seventh Street, SW., Washington, DC 20410-8000; telephone: (202) 708-3000.

• Regulation: 24 CFR 891.165.

Project/Activity: George & Lois Brown Estates, Henderson, NV; Project Number: 125-HD067/NV25-Q991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 5, 2003.

Reason Waived: The project could not proceed to initial closing due to a lengthy delay in obtaining a survey, and also issues involving secondary financing documents.

Contact: Willie Spearmon, Director, Office of Housing Assistance and Grant Administration, Department of Housing and Urban Development, 451 Seventh Street, SW., Washington, DC 20410-8000; telephone: (202) 708-3000.

• Regulation: 24 CFR 891.165.

Project/Activity: Stanton Accessible Apartments, Stanton, CA; Project Number: 143-HD008/CA43-Q981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 5, 2003.

Reason Waived: The owner needed additional time to resolve a funding issue.

Contact: Willie Spearmon, Director, Office of Housing Assistance and Grant Administration, Department of Housing and Urban Development, 451 Seventh Street, SW., Washington, DC 20410-8000; telephone: (202) 708-3000.

• Regulation: 24 CFR 891.165.

Project/Activity: Browns Memorial Manor, Rochester, NY; Project Number: 014-EE200/NY06-S001-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 13, 2003.

Reason Waived: HUD needed additional time to review the firm commitment application.

Contact: Willie Spearmon, Director, Office of Housing Assistance and Grant Administration, Department of Housing and Urban Development, 451 Seventh Street, SW., Washington, DC 20410-8000; telephone: (202) 708-3000.

• Regulation: 24 CFR 891.165.

Project/Activity: St. Jude Manor, Akron, OH; Project Number: 042-EE112/OH12-S991-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 14, 2003.

Reason Waived: The project incurred delays due to a site change and the need to prepare the environmental study and site plans for the new site.

Contact: Willie Spearmon, Director, Office of Housing Assistance and Grant Administration, Department of Housing and Urban Development, 451 Seventh Street, SW., Washington, DC 20410-8000; telephone: (202) 708-3000.

• Regulation: 24 CFR 891.165.

Project/Activity: Hayworth Housing, Los Angeles, CA; Project Number: 122-HD118/CA16-Q991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 14, 2003.

Reason Waived: The sponsor needed additional time to find an acceptable site.

Contact: Willie Spearmon, Director, Office of Housing Assistance and Grant Administration, Department of Housing and Urban Development, 451 Seventh Street, SW., Washington, DC 20410-8000; telephone: (202) 708-3000.

• Regulation: 24 CFR 891.165.

Project/Activity: Nader Building, Zanesville, OH; Project Number: 043-EE072/OH16-S001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 14, 2003.

Reason Waived: The sponsor needed additional time to prepare the plans and specifications for the change in development methods, to obtain a demolition permit, and for the field office to submit a request to combine this project with the Sponsor's recently funded Section 202 project.

Contact: Willie Spearmon, Director, Office of Housing Assistance and Grant Administration, Department of Housing and Urban Development, 451 Seventh Street, SW., Washington, DC 20410-8000; telephone: (202) 708-3000.

• Regulation: 24 CFR 891.165.

Project/Activity: Sterling Oaks, Mt. Sterling, KY; Project Number: 083-HD064/KY36-Q001-005.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 17, 2003.

Reason Waived: The project experienced delays due to the sponsor's difficulty in obtaining a building permit from the local authorities.

Contact: Willie Spearmon, Director, Office of Housing Assistance and Grant Administration, Department of Housing and Urban Development, 451 Seventh Street, SW., Washington, DC 20410-8000; telephone: (202) 708-3000.

• Regulation: 24 CFR 891.165.

Project/Activity: Honoka'a Knolls Senior Apartments, Honoka'a, HI; Project Number: 140-EE020-NP-WAH/HI10-S991-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 17, 2003.

Reason Waived: The sponsor needed additional time to obtain funding from other sources.

Contact: Willie Spearmon, Director, Office of Housing Assistance and Grant Administration, Department of Housing and Urban Development, 451 Seventh Street, SW., Washington, DC 20410-8000; telephone: (202) 708-3000.

• Regulation: 24 CFR 891.165.

Project/Activity: Creekside Gardens, Paso Robles, CA; Project Number: 122-EE162/CA16-S991-013.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 17, 2003.

Reason Waived: HUD needed additional time to process the firm commitment application and for the owner to prepare documents for the initial closing.

Contact: Willie Spearmon, Director, Office of Housing Assistance and Grant Administration, Department of Housing and Urban Development, 451 Seventh Street, SW., Washington, DC 20410-8000; telephone: (202) 708-3000.

• Regulation: 24 CFR 891.165.

Project/Activity: LaPlaya Apartments, San Francisco, CA; Project Number: 121-HD065/CA39-Q981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 17, 2003.

Reason Waived: Additional time is needed to resolve the Building Permit appeal issue and to complete the legal requirements for initial closing.

Contact: Willie Spearmon, Director, Office of Housing Assistance and Grant Administration, Department of Housing and Urban Development, 451 Seventh Street, SW., Washington, DC 20410-8000; telephone: (202) 708-3000.

• Regulation: 24 CFR 891.165.

Project/Activity: Ka'u Group Home, Ka'u, HI; Project Number: 140-HD024/HI110-Q001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 17, 2003.

Reason Waived: Delays were caused because the sponsor had difficulty securing an acceptable site.

Contact: Willie Spearmon, Director, Office of Housing Assistance and Grant Administration, Department of Housing and Urban Development, 451 Seventh Street, SW., Washington, DC 20410-8000; telephone: (202) 708-3000.

• Regulation: 24 CFR 891.165.

Project/Activity: McDowell County Housing Action Network, Gary, WV; Project Number: 045-EE014/WV15-S001-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 17, 2003.

Reason Waived: The project incurred delays due to a site change, and the need to prepare the environmental study and site plans for the new site.

Contact: Willie Spearmon, Director, Office of Housing Assistance and Grant Administration, Department of Housing and Urban Development, 451 Seventh Street, SW., Washington, DC 20410-8000; telephone: (202) 708-3000.

• Regulation: 24 CFR 891.165.

Project/Activity: AHEPA Lehigh Chapter 60 Apartments, Allentown, PA; Project Number: 034-EE104/PA26-S001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 19, 2003.

Reason Waived: The Owner needed additional time to resolve issues with the title and to get a lien removed from the site.

Contact: Willie Spearmon, Director, Office of Housing Assistance and Grant Administration, Department of Housing and Urban Development, 451 Seventh Street, SW., Washington, DC 20410-8000; telephone: (202) 708-3000.

• Regulation: 24 CFR 891.165.

Project/Activity: Reseda Horizons, Northridge, CA; Project Number: 122-HD136/CA16-Q001-007.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 21, 2003.

Reason Waived: The sponsor needed additional time due to a site change and the subsequent development of contract documents for the new site.

Contact: Willie Spearmon, Director, Office of Housing Assistance and Grant Administration, Department of Housing and Urban Development, 451 Seventh Street, SW., Washington, DC 20410-8000; telephone: (202) 708-3000.

• Regulation: 24 CFR 891.165.

Project/Activity: Union Seniors, Los Angeles, CA; Project Number: 122-EE133/CA16-S981-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 23, 2003.

Reason Waived: Additional time was needed for the field office to approve the new site, issue the Firm Commitment, and for the project to reach initial closing.

Contact: Willie Spearmon, Director, Office of Housing Assistance and Grant Administration, Department of Housing and Urban Development, 451 Seventh Street, SW., Washington, DC 20410-8000; telephone: (202) 708-3000.

• Regulation: 24 CFR 891.165.

Project/Activity: Hale O Mana'o Lana Hou II, Wailuku Maui, HI; Project Number: 140-HD015/HI110-Q961-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 24, 2003.

Reason Waived: Additional time was needed to resolve legal issues involving the partial release of the site.

Contact: Willie Spearmon, Director, Office of Housing Assistance and Grant Administration, Department of Housing and Urban Development, 451 Seventh Street, SW., Washington, DC 20410-8000; telephone: (202) 708-3000.

• Regulation: 24 CFR 891.165.

Project/Activity: AHEPA 23—III Apartments, Montgomery, AL; Project Number: 062-EE046/AL09-S001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 25, 2003.

Reason Waived: Additional time was needed to obtain additional funds and to prepare for initial closing.

Contact: Willie Spearmon, Director, Office of Housing Assistance and Grant Administration, Department of Housing and Urban Development, 451 Seventh Street, SW., Washington, DC 20410-8000; telephone: (202) 708-3000.

• Regulation: 24 CFR 891.165.

Project/Activity: Floyd-Kress Homes, Frederick, MD; Project Number: 052-HD043/MD06-Q001-003.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 26, 2003.

Reason Waived: The sponsor needed additional time to obtain permits from the local government.

Contact: Willie Spearmon, Director, Office of Housing Assistance and Grant Administration, Department of Housing and Urban Development, 451 Seventh Street, SW., Washington, DC 20410-8000; telephone: (202) 708-3000.

• Regulation: 24 CFR 891.165.

Project/Activity: Pensdale Apartments, Philadelphia, PA; Project Number: 034-EE100/PA26-S991-009.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 28, 2003.

Reason Waived: The project incurred delays due to the length of time it took to relocate several commercial businesses in the property.

Contact: Willie Spearmon, Director, Office of Housing Assistance and Grant Administration, Department of Housing and Urban Development, 451 Seventh Street, SW., Washington, DC 20410-8000; telephone: (202) 708-3000.

• Regulation: 24 CFR 891.165.

Project/Activity: Nanaikeola Senior Apartments, Waianae, HI; Project Number: 140-EE019/HI10-S991-001.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 31, 2003.

Reason Waived: The sponsor needed additional time to search for additional funds from outside sources. The project incurred delays due to the need to redesign the project.

Contact: Willie Spearmon, Director, Office of Housing Assistance and Grant Administration, Department of Housing and Urban Development, 451 Seventh Street, SW., Washington, DC 20410-8000; telephone: (202) 708-3000.

• Regulation: 24 CFR 891.165.

Project/Activity: Hall Commons, Bridgeport, CT; Project Number: 017-EE063/CT26-S001-006.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 31, 2003.

Reason Waived: The project experienced significant delays because the sponsor had to replace the original architect and engineering team.

Contact: Willie Spearmon, Director, Office of Housing Assistance and Grant Administration, Department of Housing and Urban Development, 451 Seventh Street, SW., Washington, DC 20410-8000; telephone: (202) 708-3000.

• Regulation: 24 CFR 891.165.

Project/Activity: Seneca County VOA, Tiffin, OH; Project Number: 042-EE120/OH12-S001-004.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: March 31, 2003.

Reason Waived: The owner needed additional time to get approval from the Environmental Protection Agency for the sewer tap permit.

Contact: Willie Spearmon, Director, Office of Housing Assistance and Grant Administration, Department of Housing and Urban Development, 451 Seventh Street, SW., Washington, DC 20410-8000; telephone: (202) 708-3000.

• Regulation: 24 CFR 891.165.

Project/Activity: Hill House, Cleveland, OH; Project Number: 042-HD088/OH12-Q001-002.

Nature of Requirement: Section 891.165 provides that the duration of the fund reservation for the capital advance is 18 months from the date of issuance with limited exceptions up to 24 months, as approved by HUD on a case-by-case basis.

Granted By: John C. Weicher, Assistant Secretary for Housing-Federal Housing Commissioner.

Date Granted: February 13, 2003.

Reason Waived: HUD needed additional time to review and approve secondary financing documents received from the Ohio Department of Mental Health.

Contact: Willie Spearmon, Director, Office of Housing Assistance and Grant Administration, Department of Housing and Urban Development, 451 Seventh Street, SW., Washington, DC 20410-8000; telephone: (202) 708-3000.

• Regulation: 24 CFR 891.205.

Project/Activity: Immanuel Courtyard III, Omaha, NE; Project Number: 103-EE027/NE26-S021-001.

Nature of Requirement: Section 891.205 provides that Section 202 project owners be single-purpose corporations.

Granted By: John C. Weicher, Assistant Secretary for Housing-Federal Housing Commissioner.

Date Granted: February 28, 2003.

Reason Waived: The project will be built adjacent to the sponsor's existing Section 202 project and one owner-entity would promote greater service provision, significant cost savings, and coordinated administrative maintenance.

Contact: Willie Spearmon, Director, Office of Housing Assistance and Grant Administration, Department of Housing and Urban Development, 451 Seventh Street, SW., Washington, DC 20410-8000; telephone: (202) 708-3000.

• Regulation: 24 CFR 891.410(c).

Project/Activity: Pioneer Square Apartments, Spokane, WA; Project Number: 171-EH002.

Nature of Requirement: Section 891.410 relates to admission of families to projects for elderly or handicapped families that received reservations under section 202 of the Housing Act of 1959 and housing assistance under section 8 of the U.S. Housing Act of 1937. Section 891.410(c) limits occupancy to very low-income elderly persons; that is, households of one or more persons at least one of whom is 62 years of age at the time of initial occupancy.

Granted By: John C. Weicher, Assistant Secretary for Housing-Federal Housing Commissioner.

Date Granted: January 30, 2003.

Reason Waived: The Northwest/Alaska Multifamily Hub requested permission to waive the age requirements of the subject property. The owner/management agent of the subject project has requested permission to waive the elderly and low-income requirements to alleviate the current occupancy and financial problems at the property. The property will be allowed to rent to the non-elderly between the ages of 55 and 62 years and allow the applicants to meet the low-income eligibility requirements. Providing for a waiver to the elderly and low-income restrictions will allow the owner additional flexibility to rent vacant units. The owner will have the flexibility to offer units to the non-elderly, low-income applicants, and therefore, will be able to achieve full occupancy, and the project will not fail. This waiver is effective for one year from date of approval.

Contact: Beverly J. Miller, Director, Office of Asset Management, Department of Housing and Urban Development, 451 Seventh Street, SW., Room 6160, Washington, DC 20410-8000; telephone: (202) 708-3730.

• Regulation: 24 CFR 891.410(c).

Project/Activity: Fairfield Apartments, Huntington, WV; Project Number: 045-EE007.

Nature of Requirement: Section 891.410 relates to admission of families to projects for elderly or handicapped families that received reservations under section 202 of the Housing Act of 1959 and housing assistance under section 8 of the U.S. Housing Act of 1937. Section 891.410(c) limits occupancy to very low-income elderly persons; that is, households of one or more persons at least one of whom is 62 years of age at the time of initial occupancy.

Granted By: John C. Weicher, Assistant Secretary for Housing-Federal Housing Commissioner.

Date Granted: March 13, 2003.

Reason Waived: The Charleston Multifamily Program Center requested permission to waive the age requirements of the subject property. The owner/management agent of the subject project has requested permission to waive the elderly and low-income requirements to alleviate the current occupancy and financial problems at the property. The property will be allowed to rent to the non-elderly between the ages of 55 and 62 years and allow the applicants to meet the low-income eligibility requirements. Providing for a waiver to the elderly and low-income restrictions will allow the owner additional flexibility to rent vacant units. The owner will have the flexibility to offer units to the non-elderly, low-income applicants, and therefore, will be able to achieve full occupancy and the project will not fail. This waiver is effective for one year from date of approval.

Contact: Beverly J. Miller, Director, Office of Asset Management, Department of Housing and Urban Development, 451 Seventh Street, SW., Room 6160, Washington, DC 20410-8000; telephone: (202) 708-3730.

III. Regulatory Waivers Granted by the Office of Public and Indian Housing

For further information about the following waivers actions, please see the name of the contact person who immediately follows the description of the waiver granted.

• Regulation: 24 CFR 902.33 (c).

Project/Activity: AL001, Housing Authority of the Birmingham District, Birmingham, AL.

Nature of Requirement: Section 902.33(c) addresses reporting compliance dates. Unaudited financial statements are required two months after the fiscal year end of a public housing agency (PHA) and audited financial statements are required no later than 9 months after the PHA's fiscal year end, in accordance with the Single Audit Act and OMB Circular A-133 of the Office of Management and Budget (OMB).

Granted By: Michael Liu, Assistant Secretary for Public and Indian Housing.

Date Granted: February 24, 2003.

Reason Waived: PHA's auditor's license was revoked prior to audit financial submission. This created a circumstance beyond the PHA's control for getting information submitted to Real Estate Assessment Center (REAC). PHA was granted extension of June 30, 2003.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: FL057, Palatka Housing Authority, Palatka, FL.

Nature of Requirement: Section 902.33(c) addresses reporting compliance dates. Unaudited financial statements are required two months after the fiscal year end of a public housing agency (PHA) and audited financial statements are required no later than 9 months after the PHA's fiscal year end, in accordance with the Single Audit Act and OMB Circular A-133 of the Office of Management and Budget (OMB).

Granted By: Michael Liu, Assistant Secretary for Public and Indian Housing.

Date Granted: February 3. 2003.

Reason Waived: PHA experienced several managerial/operational problems since early 2002. Both the Executive Director and Finance Director were suspended and then terminated. In addition, the Florida State Attorney's Office and HUD's Office of Inspector General (OIG) were currently investigating the agency's financial situation. Without certification from these agencies, the PHA could not complete its audit.

Contact: Judy Wojciechowski, Director, Office of Troubled Agency Recovery, Office of Public and Indian Housing, Department of Housing and Urban Development, 451 Seventh Street, SW., Washington, DC, 20410-5000; telephone: (202) 708-4932.

• Regulation: 24 CFR 902.33(c).

Project/Activity: IL039, Kankakee County Housing Authority, Kankakee, IL.

Nature of Requirement: Section 902.33(c) addresses reporting compliance dates. Unaudited financial statements are required two months after the fiscal year end of a public housing agency (PHA) and audited financial statements are required no later than 9 months after the PHA's fiscal year end, in accordance with the Single Audit Act and OMB Circular A-133 of the Office of Management and Budget (OMB).

Granted By: Paula O. Blunt, for Michael Liu, Assistant Secretary for Public and Indian Housing.

Date Granted: April 2, 2003.

Reason Waived: The PHA had reporting problems for FY 2001 and an Independent Public Accountant (IPA) conflict of interest problem for FY 2002. These issues hindered the PHA's ability to submit its audit reports to REAC in a timely manner.

Contact: Judy Wojciechowski, Director, Office of Troubled Agency Recovery, Office of Public and Indian Housing, Department of Housing and Urban Development, 451 Seventh Street, SW., Washington, DC 20410-5000; telephone: (202) 708-4932.

• Regulation: 24 CFR 902.33(c).

Project/Activity: TX036, Housing Authority of the City of Borger, Borger, TX.

Nature of Requirement: Section 902.33(c) addresses reporting compliance dates. Unaudited financial statements are required two months after the fiscal year end of a public housing agency (PHA) and audited financial statements are required no later than 9 months after the PHA's fiscal year end, in accordance with the Single Audit Act and OMB Circular A-133 of the Office of Management and Budget (OMB).

Granted By: Michael Liu, Assistant Secretary for Public and Indian Housing.

Date Granted: February 7, 2003.

Reason Waived: PHA stated that HUD's OIG had its financial books from July 23, 2002, through November 20, 2002, which affected its ability to submit the audit report to REAC in a timely manner.

Contact: Judy Wojciechowski, Director, Office of Troubled Agency Recovery, Office of Public and Indian Housing, Department of Housing and Urban Development, 451 Seventh Street, SW., Washington, DC 20410-5000; telephone: (202) 708-4932.

• Regulation: 24 CFR 982.207(b)(3).

Project/Activity: San Francisco Housing Authority (SFHA), San Francisco, CA. The SFHA requested a waiver of a selection preference regulation in order to select Housing Opportunities for Persons with AIDS (HOPWA)-eligible families to occupy 61 of the units receiving project-based voucher assistance at the 68-unit Derek Silva project.

Nature of Requirement: Section 982.207(b)(3), which governs tenant selection under the project-based voucher program, states that a housing agency may adopt a preference for admission of families that include a person with disabilities, but may not adopt a preference for persons with a specific disability.

Granted By: Michael Liu, Assistant Secretary for Public and Indian Housing.

Date Granted: February 19, 2003.

Reason Waived: Since by law only persons with HIV/AIDS may occupy units developed with HOPWA funds, a public housing agency may only authorize occupancy of such units that also receive project-based voucher assistance by persons with HIV/AIDS. Therefore, in selecting families to refer to the owner for occupancy of these units, the SFHA will have to pass over persons on its waiting list until it reaches a person with HIV/AIDS who is interested in moving into one of these units at the Derek Silva project.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: 24 CFR 982.207(b)(3).

Project/Activity: Anaheim Housing Authority (AHA), Anaheim, CA. The AHA requested a waiver of a selection preference regulation in order to select Housing Opportunities for Persons with HIV/AIDS (HOPWA) eligible families to occupy 22 units receiving project-based voucher assistance at the 23-unit Casa Alegre project.

Nature of Requirement: Section 982.207(b)(3) states that a housing agency may adopt a preference for admission of families that include a person with disabilities, but may not adopt a preference for persons with a specific disability.

Granted By: Michael Liu, Assistant Secretary for Public and Indian Housing.

Date Granted: February 26, 2003.

Reason Waived: Since by law only persons with HIV/AIDS may occupy units developed with HOPWA funds, a public housing agency may only authorize occupancy of such units that also receive project-based voucher assistance by persons with HIV/AIDS. Therefore, in selecting families to refer to the owner for occupancy of these units, the SFHA will have to passover persons on its waiting list until it reaches a person with HIV/AIDS who is interested in moving into one of these units at the Casa Alegre Silva project.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: 24 CFR 982.207(b)(3).

Project/Activity: San Francisco Housing Authority (SFHA), San Francisco, CA. The SFHA requested a waiver of a selection preference regulation in order to select Housing Opportunities for Persons with HIV/AIDS (HOPWA) eligible families to occupy 8 of the 18 units receiving project-based voucher assistance at the Dudley Hotel.

Nature of Requirement: Section 982.207(b)(3) states that a housing agency may adopt a preference for admission of families that include a person with disabilities, but may not adopt a preference for persons with a specific disability.

Granted By: Michael Liu, Assistant Secretary for Public and Indian Housing.

Date Granted: March 26, 2003.

Reason Waived: Since by law only persons with HIV/AIDS may occupy units developed with HOPWA funds, a public housing agency may only authorize occupancy of such units that also receive project-based voucher assistance by persons with HIV/AIDS. Therefore, in selecting families to refer to the owner for occupancy of these units, the SFHA will have to pass over persons on its waiting list until it reaches a person with HIV/AIDS who is interested in moving into one of these units at the Dudley Hotel.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: 24 CFR 982.505(d).

Project/Activity: Brookline Housing Authority (BHA), Brookline, MA. The BHA requested a special exception payment standard that exceeds 120 percent of the fair market rent as a reasonable accommodation for a disabled housing choice voucher program participant. The participant suffers from bi-polar disorder that makes her unable to manage her personal finances, solve daily problems, and render reasonable judgment decisions regarding her personal safety.

Nature of Requirement: Section 982.505(d) allows a PHA to approve a higher payment standard within the basic range for a family that includes a person with a disability as a reasonable accommodation in accordance with 24 CFR Part 8.

Granted By: Michael Liu, Assistant Secretary for Public and Indian Housing.

Date Granted: January 21, 2003.

Reason Waived: Approval of the waiver was granted to allow a disabled housing choice voucher participant to rent a unit with on-site supervision and assistance with living activities, without which she would not be able to live independently.

Contact: Gerald Benoit, Director, Housing Voucher Management and Operations Division, Office of Public Housing and Voucher, Office of Public and Indian Housing, Department of Housing and Urban Development, 451 Seventh Street, SW., Room 4210, Washington, DC 20410-5000; telephone: (202) 708-0477.

• Regulation: 24 CFR 982.505(d)

Project/Activity: Housing Authority of the City of Los Angeles (HACLA), Los Angeles, CA. The HACLA requested a special exception payment standard that exceeds 120 percent of the fair market rent as a reasonable accommodation for a housing choice voucher program participant with a disabled family member. The family member suffers from brain damage and has a developmental disability.

Nature of Requirement: Section 982.505(d) allows a PHA to approve a higher payment standard within the basic range for a family that includes a person with a disability as a reasonable accommodation in accordance with 24 CFR Part 8.

Granted By: Michael Liu, Assistant Secretary for Public and Indian Housing.

Date Granted: February 4, 2003.

Reason Waived: Approval of the waiver was granted to allow a housing choice voucher participant to rent a unit close to the medical care facilities that are required frequently by the disabled family member.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: 24 CFR 983.51

Project/Activity: San Francisco Housing Authority (SFHA), San Francisco, CA. The SFHA requested a waiver of competitive selection of owner proposals.

Nature of Requirement: Section 983.51 requires competitive selection of owner proposals in accordance with a housing authority's HUD-approved advertisement and unit selection policy.

Granted By: Michael Liu, Assistant Secretary for Public and Indian Housing.

Date Granted: March 28, 2003.

Reason Waived: Competitive selection was waived since Valencia Gardens had already undergone a competitive selection process for a HOPE VI grant.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: 24 CFR 983.51 and Section II subpart E of the January 16, 2001, Federal Register Notice, Revisions to PHA Project-Based Assistance (PBA) Program; Initial Guidance.

Project/Activity: Oakland Housing Authority (OHA), Oakland, CA. The OHA requested a waiver of competitive selection of owner proposals and an exception to the initial guidance to permit it to attach PBA to Mandela Gateway that will be located in a census tract with a poverty rate of 52 percent.

Nature of Requirement: Section 983.51 requires competitive selection of owner proposals in accordance with a housing authority's HUD-approved advertisement and unit selection policy. Section II subpart E of the initial guidance requires that in order to meet the Department's goal of deconcentration and expanding housing and economic opportunities, the projects must be in census tracts with poverty rates of less than 20 percent.

Granted By: Michael Liu, Assistant Secretary for Public and Indian Housing.

Date Granted: February 4, 2003.

Reason Waived: Competitive selection was waived since the project developer/partner was already competitively selected as a HOPE VI partner by the OHA. Approval of the exception for deconcentration was granted since Mandela Gateway is in a HUD-designated Enhanced Enterprise Community, the purpose of which is to open new businesses, and create jobs, housing, and new educational and healthcare opportunities. These goals are consistent with the goals of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: 24 CFR 983.51 and Section II subpart E of the January 16, 2001, Federal Register Notice, Revisions to PHA Project-Based Assistance (PBA) Program; Initial Guidance.

Project/Activity: Dayton Metropolitan Housing Authority (DMHA), Dayton, OH. The DMHA requested a waiver of competitive selection of owner proposals and an exception to the initial guidance to permit it to attach PBA to Dayton View Commons that will be located in a census tract with a poverty rate of 50 percent.

Nature of Requirement: Section 983.51 requires competitive selection of owner proposals in accordance with a housing authority's HUD-approved advertisement and unit selection policy. Section II subpart E of the initial guidance requires that in order to meet the Department's goal of deconcentration and expanding housing and economic opportunities, the projects must be in census tracts with poverty rates of less than 20 percent.

Granted By: Michael Liu, Assistant Secretary for Public and Indian Housing.

Date Granted: February 13, 2003.

Reason Waived: Competitive selection was waived since the project was competitively awarded nine percent Low Income Housing Tax Credits through the Ohio Housing Finance Agency. Approval of the exception for deconcentration was granted since Dayton View Commons is a HOPE VI project, the purpose of which is to transform public housing through: changing the physical shape of public housing; establishing positive incentives for resident self-sufficiency and comprehensive services that empower residents; promoting mixed-income communities; and forging partnerships with other agencies, local governments, nonprofit organizations, and private businesses to leverage support and resources. These goals are consistent with the goals of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: 24 CFR 983.51 and Section II subpart E of the January 16, 2001, Federal Register Notice, Revisions to PHA Project-Based Assistance (PBA) Program; Initial Guidance.

Project/Activity: Tacoma Housing Authority (THA), Tacoma, WA. The THA requested a waiver of competitive selection of owner proposals and an exception to the initial guidance to permit it to attach PBA to Hillside Terrace Phase II that will be located in a census tract with a poverty rate of 28.9 percent.

Nature of Requirement: Section 983.51 requires competitive selection of owner proposals in accordance with a housing authority's HUD-approved advertisement and unit selection policy. Section II subpart E of the initial guidance requires that in order to meet the Department's goal of deconcentration and expanding housing and economic opportunities, the projects must be in census tracts with poverty rates of less than 20 percent.

Granted By: Michael Liu, Assistant Secretary for Public and Indian Housing.

Date Granted: March 4, 2003.

Reason Waived: Competitive selection was waived since the project had already gone through two rounds of competitive selection. It competed for Low Income Housing Tax Credits through the Washington State Housing Finance Commission and was competitively awarded $250,000 by the Washington State Housing Trust Fund. Approval of the exception for deconcentration was granted since the number of assisted units in this project was reduced from 60 units of public housing to 51 assisted units including the five that receive PBA. Also, the city of Tacoma is a HUD-designated Renewal Community (formerly Enterprise Community), the purpose of which is to open new businesses, and create jobs, housing, and new educational and healthcare opportunities for thousands of Americans. These goals are consistent with the goals of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: 24 CFR 983.51 and Section II subpart E of the January 16, 2001, Federal Register Notice, Revisions to PHA Project-Based Assistance (PBA) Program; Initial Guidance.

Project/Activity: Chicago Housing Authority (CHA), Chicago, IL. The CHA requested a waiver of competitive selection of owner proposals and an exception to the initial guidance to permit it to attach PBA to 600 South Wabash that will be located in a census tract with a poverty rate of 24 percent.

Nature of Requirement: Regulations at 24 CFR 983.51 requires competitive selection of owner proposals in accordance with a housing authority's HUD-approved advertisement and unit selection policy. Section II subpart E of the initial guidance requires that in order to meet the Department's goal of deconcentration and expanding housing and economic opportunities, the projects must be in census tracts with poverty rates of less than 20 percent.

Granted By: Michael Liu, Assistant Secretary for Public and Indian Housing.

Date Granted: March 12, 2003.

Reason Waived: Competitive selection was waived since 600 Wabash had gone through several competitive rounds including the City of Chicago Department of Housing's competition for low-income housing tax credits, the Chicago Low Income Housing Trust Fund Affordable Rents for Chicago competition, the HUD Shelter Plus Care application process, and the IHDA Affordable Housing Tax Credit competition. Approval of the exception for deconcentration was granted since between 1990 and 2000 the population of the two community areas in which the project is located, the Loop and Near South Side, grew by 37 and 39 percent, respectively. There was a 23 percent increase in the number of businesses and a 20 percent increase in the number of wage earners during the same time period. This is consistent with the goals of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: 24 CFR 983.51 and Section II subpart E of the January 16, 2001, Federal Register Notice, Revisions to PHA Project-Based Assistance (PBA) Program; Initial Guidance.

Project/Activity: Cuyahoga Metropolitan Housing Authority (CMHA), Cleveland, OH. The CMHA requested a waiver of competitive selection of owner proposals and an exception to the initial guidance to permit it to attach PBA to Cleveland New Construction III in census tracts with poverty rates that range from 30.5 to 54.2 percent.

Nature of Requirement: Section 983.51 requires competitive selection of owner proposals in accordance with a housing authority's HUD-approved advertisement and unit selection policy. Section II subpart E of the initial guidance requires that in order to meet the Department's goal of deconcentration and expanding housing and economic opportunities, the projects must be in census tracts with poverty rates of less than 20 percent.

Granted By: Michael Liu, Assistant Secretary for Public and Indian Housing.

Date Granted: March 18, 2003.

Reason Waived: The CMHA was awarded funds by the Department to provide housing to replace approximately 350 units of obsolete multifamily housing that were demolished in the neighborhoods of Hough and Glenville. Cleveland New Construction (CNC) III is one of the projects designed to replace 234 of the 350 units demolished. Competitive selection was waived since the CMHA's partner in the development of CNC III was competitively selected in September 2000. Approval of the exception for deconcentration was granted since 40 units of the CNC III project, in which the CMHA plans to attach PBA will be located in Cleveland's HUD-designated Empowerment Zone, the purpose of which is to open new businesses, and create jobs, housing, and new educational and healthcare opportunities. These goals are consistent with the goals of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: Section II subpart E of the January 16, 2001, Federal Register Notice, Revisions to PHA Project-Based Assistance (PBA) Program; Initial Guidance.

Project/Activity: Housing Authority of New Orleans (HANO), New Orleans, LA. The HANO requested an exception to the Initial Guidance for three developments that are located in census tracts with poverty rates greater than 20 percent. The HANO's request for an exemption for the following three projects was based upon a need for decent and affordable housing in the city and continued improvement in areas where millions of dollars have been spent to rehabilitate blighted housing in a city where one third of the housing stock was built prior to 1940.

Nature of Requirement: Section II subpart E of the initial guidance requires that in order to meet the Department's goal of deconcentration and expanding housing and economic opportunities, the projects must be in census tracts with poverty rates of less than 20 percent.

Granted By: Michael Liu, Assistant Secretary for Public and Indian Housing.

Date Granted: January 6, 2003.

Reason Waived: The City of New Orleans developed an Impact Neighborhood Strategy (INS) that promotes rehabilitating projects in cluster areas, bringing together public and private sector resources. The focus of this initiative is the establishment of partnerships between the city, financial institutions, neighborhood churches, and community-based organizations. By pooling public and private funds, these partnerships create a variety of housing programs targeting homeownership, owner-occupied rehabilitation, and investor-owned rehabilitation. The City of New Orleans identified six INS areas. The goals of the INS areas are consistent with the goals of deconcentrating poverty.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: Section II subpart F and subpart E of the January 16, 2001, Federal Register Notice, Revisions to PHA Project-Based Assistance (PBA) Program; Initial Guidance.

Project/Activity: Manchester Housing and Redevelopment Authority (MHRA), Manchester, NH. The MHRA requested an exception to the Initial Guidance on revisions to the project-based assistance (PBA) program published in the Federal Register on January 16, 2001, regarding the 25 percent cap on the number of units in a building to which PBA can be attached. This exception was requested for four sites owned and managed by Families in Transition (FIT), to which the MHRA intends to attach such assistance. The MHRA also requested an exception in regard to deconcentration for a project owned by the Neighborhood Housing Service (NHS).

Nature of Requirement: Section II subpart F of the Initial Guidance, states that a PHA may not enter into an agreement or housing assistance payments (HAP) contract to provide project-based voucher assistance for more than 25 percent of the units in any one building, except for dwelling units that are specifically made available for elderly families, disabled families, and families receiving supportive services. Section II subpart E of the Initial Guidance requires that all new PBA agreements or HAP contracts be for units in census tracts with poverty rates of less than 20 percent, unless HUD specifically approves an exception. The aforementioned Initial Guidance requires that a PBA contract may only be approved if it is consistent with the goal of deconcentrating poverty and expanding housing and economic opportunities.

Granted By: Michael Liu, Assistant Secretary for Public and Indian Housing.

Date Granted: March 4, 2003.

Reason Waived: Approval of the exception regarding the 25 percent cap was granted because all four of the sites owned and managed by FIT will are leased to families receiving supportive services. FIT provides a considerable array of services, including case management, therapeutic services, community meetings, educational workshops, employment and advanced computer training program, childcare, transportation, and linkages to numerous other service providers. In regards to deconcentration, the NHS proposes to provide PBA for six units at 25 Brook Street/15-19 Temple Court. There are several housing and economic development activities going on in the census tract where these projects are located. The Verizon Wireless Arena opened one year ago and is bringing numerous sporting and entertainment venues to Manchester that stimulate restaurant, hotel, and retail activity; a sizeable residential development is planned for the block at the corner of Bridge and Elm Street that will include 210 units that are to be “upscale and costly” thereby reducing the concentration of low-income households in the census tract; renovations are underway to the offices at Hampshire Plaza at 1000 Elm Street as well as to the retail and office space at the Chase Building at 1037-1043 Elm Street. The Smith Dow Block at 1382-1480 Elm Street was also renovated a couple of years ago considerably upgrading the 68 residential units there. Additional planned improvements include streetscape improvements at Lowell and Elm Streets and the widening of Granite Street.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: Section II subpart F of the January 16, 2001, Federal Register Notice, Revisions to PHA Project-Based Assistance (PBA) Program; Initial Guidance.

Project/Activity: Vermont State Housing Authority (VSHA), Montpelier, VT. The VSHA requested an exception to the Initial Guidance on revisions to the project-based assistance program published in the Federal Register on January 16, 2001, regarding the 25 percent cap on the number of units in a building to which PBA can be attached. This exception was requested by the Housing Foundation, Inc. on behalf of Templeton Court Apartments, to which VSHA intends to attach such assistance.

Nature of Requirement: Section II subpart F of the Initial Guidance states that a PHA may not enter into an agreement or housing assistance payments contract to provide project-based voucher assistance for more than 25 percent of the units in any one building, except for dwelling units that are specifically made available for elderly families, disabled families, and families receiving supportive services.

Granted By: Michael Liu, Assistant Secretary for Public and Indian Housing.

Date Granted: March 4, 2003.

Reason Waived: Approval of the exception was granted because the programs at Templeton Court provide services to people of all ages and include a strong emphasis on self-sufficiency and economic independence. To this objective, Templeton Court Apartments provide a considerable array of supportive services which include activities for children such as playgroups, homework clubs, mentoring program with students from Dartmouth College; and for adults, GED classes, and both the voucher family self-sufficiency program and voucher homeownership program.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: Section II subpart E of the January 16, 2001, Federal Register Notice, Revisions to PHA Project-Based Assistance (PBA) Program; Initial Guidance.

Project/Activity: St. Paul Public Housing Agency (SPPHA), St. Paul, MN. The SPPHA requested an exception to the initial guidance to permit it to attach PBA to North Grotto, a building that is in a census tract with a poverty rate of 22.8 percent.

Nature of Requirement: Section II subpart E of the initial guidance requires that in order to meet the Department's goal of deconcentration and expanding housing and economic opportunities, the projects must be in census tracts with poverty rates of less than 20 percent.

Granted By: Michael Liu, Assistant Secretary for Public and Indian Housing.

Date Granted: March 7, 2003.

Reason Waived: Approval of the exception for deconcentration was granted since the Grotto is within 165 yards of a HUD-designated Enterprise Community the goals of which are to open new businesses, create jobs, housing, and new educational and healthcare opportunities. These goals are consistent with the goals of deconcentrating poverty and expanding housing and economic opportunities.

Contact: Gerald Benoit, Director, Housing Voucher Management and Operations Division, Office of Public Housing and Voucher Programs, Office of Public and Indian Housing, Department of Housing and Urban Development, 451 Seventh Street, SW., Room 4210,Washington, DC 20410-0; telephone: (202) 708-0477.

• Regulation: Section II subpart E of the January 16, 2001, Federal Register Notice, Revisions to PHA Project-Based Assistance (PBA) Program; Initial Guidance.

Project/Activity: Chicago Housing Authority (CHA), Chicago, IL. The CHA requested an exception to the initial guidance to permit it to attach PBA to Roosevelt Tower that will be located in a census tract with a poverty rate of 78.32 percent.

Nature of Requirement: Section II subpart E of the initial guidance requires that in order to meet the Department's goal of deconcentration and expanding housing and economic opportunities, the projects must be in census tracts with poverty rates of less than 20 percent.

Granted By: Michael Liu, Assistant Secretary for Public and Indian Housing.

Date Granted: March 7, 2003.

Reason Waived: Approval of the exception for deconcentration was granted since Roosevelt Tower is in a HUD-designated Enterprise Community, the purpose of which is to open new businesses, and create jobs, housing, and new educational and healthcare opportunities. These goals are consistent with the goals of deconcentrating poverty and expanding housing and economic opportunities

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: Section II subpart F of the January 16, 2001, Federal Register Notice, Revisions to PHA Project-Based Assistance (PBA) Program; Initial Guidance.

Project/Activity: Douglas County Housing Authority (DCHA), Omaha, NE. The DCHA requested an exception to waive the requirement that no more than 25 percent of the dwelling units in any building may be assisted under a housing assistance payments contract for PBA except for dwelling units that are specifically made available for elderly families, disabled families, and families receiving supportive services for Platte Valley Apartments.

Nature of Requirement: Section II subpart F requires that no more than 25 percent of the dwelling units in any building may be assisted under a housing assistance payments contract for PBA except for dwelling units that are specifically made available for elderly families, disabled families, and families receiving supportive services.

Granted By: Michael Liu, Assistant Secretary for Public and Indian Housing.

Date Granted: March 18, 2003.

Reason Waived: Approval of the exception for the number of units in a building that may be project based was granted because the families living in all 48 units of Platte Valley Apartments will participate in the Family Self-Sufficiency program. These supportive services are consistent with the statute.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

• Regulation: Section II subpart E of the January 16, 2001, Federal Register Notice, Revisions to PHA Project-Based Assistance Program; Initial Guidance.

Project/Activity: Housing Authority of Baltimore City (HABC), Baltimore, MD. The HABC requested an exception to the initial guidance to permit it to attach PBA to Barrister Court, a project that will be located in a census tract with a poverty rate of 24.9 percent.

Nature of Requirement: Section II subpart E of the initial guidance requires that in order to meet the Department's goal of deconcentration and expanding housing and economic opportunities, the projects must be in census tracts with poverty rates of less than 20 percent.

Granted By: Michael Liu, Assistant Secretary for Public and Indian Housing.

Date Granted: March 24, 2003.

Reason Waived: Approval of this waiver was granted because Barrister Court is in a HUD-designated Empowerment Zone, the purpose of which is to open new businesses, and create jobs, housing, and new educational and healthcare opportunities. These goals are consistent with the goals of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000; telephone: (202) 708-0477.

IV. Regulatory Waivers Granted by the Office of Policy Development and Research

For further information about the following waiver actions, please see the name of the contact person who immediately follows the description of the waiver granted.

• Regulation: 24 CFR 84.83(f).

Project/Activity: Cooperative Agreement number H-21375CA, titled, “Success Measures Guidebook Revision” awarded to McAuley Institute, 8380 Colesville Road, Silver Spring, MD 20910-6255. A waiver of intellectual property rights was granted for this Cooperative Agreement.

Nature of Requirement: The waiver of intellectual property rights provides that HUD will have a permanent right to publish or reproduce the Revised Guidebook ,and that HUD waives its right to make derivative, or other permissible uses of the Revised Guidebook. It further acknowledges that HUD has no copyright interest in McAuley's original Guidebook, or the Revised Guidebook to be developed under the terms of the Cooperative Agreement that will be awarded to McAuley.

Granted By: Alberto F. Trevino, Assistant Secretary for the Office of Policy Development and Research.

Date Granted: March 12, 2003.

Reason Waived: Request from Grantee to protect copyright of the original Guidebook.

Contact: Patrick J. Tewey, Director, Office of Policy Development and Research, Contract and Program Control Division, Department of Housing and Urban Development, 451 Seventh Street, SW., Washington, DC 20410-6000; telephone: (202) 708-1796.

[FR Doc. 03-23885 Filed 9-18-03; 8:45 am]

BILLING CODE 4210-32-P